DEPARTMENT OF STATE

[Public Notice 4232]

New Conservation Measures for Antarctic Fishing Under the Auspices of CCAMLR

AGENCY: Department of State.

ACTION: Notice.

SUMMARY: At its Twenty-First Meeting in Hobart, Tasmania, October 21 to November 1, 2002, the Commission for the Conservation of Antarctic Marine Living Resources (CCAMLR), of which the United States is a member, adopted conservation measures, pending countries' approval, pertaining to fishing in the CCAMLR Convention Area. All the measures were agreed upon in accordance with Article IX of the Convention for the Conservation of Antarctic Marine Living Resources. Measures adopted restrict overall catches of certain species of fish and crabs, restrict fishing in certain areas, specify implementation and inspection obligations supporting the Catch Documentation Scheme of Contracting Parties, and promote compliance with CCAMLR measures by non-Contracting Party vessels. This notice includes the full text of the conservation measures adopted at the Twenty-First meeting of CCAMLR. For all of the conservation measures in force, see the CCAMLR Web site at http://www.ccamlr.org. This notice, therefore, together with the U.S. regulations referenced under the Supplementary Information provides a comprehensive register of all current U.S. obligations under CCAMLR.

DATES: Persons wishing to comment on the measures or desiring more information should submit written comments within 30 days of this announcement.

FOR FURTHER INFORMATION CONTACT: Roberta L. Chew, Office of Oceans Affairs (OES/OA), Room 5805, Department of State, Washington, DC 20520; tel: 202-647-3947; fax: 202-647-9099; e-mail: chewrl@state.gov.

SUPPLEMENTARY INFORMATION: Individuals interested in CCAMLR should also see 15 CFR Chapter III—International Fishing and Related Activities, Part 300—International Fishing Regulations, Subpart A—General; Subpart B—High Seas Fisheries; and Subpart G—Antarctic Marine Living Resources, for other regulatory measures related to conservation and management in the CCAMLR Convention area. Subpart B notes the requirements for high seas fishing vessel licensing. Subparts A and G describe the process for regulating U.S. fishing in the CCAMLR Convention area and contain the text of CCAMLR Conservation Measures that are not expected to change from year to year. The regulations in Subparts A and G include sections on; Purpose and scope; Definitions; Relationship to other treaties, conventions, laws, and regulations; Procedure for according protection to CCAMLR Ecosystem Monitoring Program Sites; Scientific Research; Initiating a new fishery; Exploratory fisheries; Reporting and recordkeeping requirements; Vessel and gear identification; Gear disposal; Mesh Size; Harvesting permits; Import permits; Appointment of a designated representative; Prohibitions; Facilitation of enforcement and inspection; and Penalties.

Conservation Measures Remaining in Force: The Commission agreed that the Conservation Measures 2/III, 3/IV, 4/V, 5/V, 7/V, 6/V, 18/XIX, 19/IX, 40/X, 51/XIX, 61/XII, 62/XIX, 63/XV, 72/XVII, 73/XVII, 82/XIX, 95/XIV, 119/XX, 121/XIX, 122/XIX, 129/XVI, 146/XVII, 171/XVIII, 173/XVIII, 180/XVIII, 217/XX, and 160/XVII and Resolutions 7/IX, 10/XII, 14/XIX, 15/XIX, 16/XIX, and 17/XX remain in force in 2002/03.

For the text of CCAMLR Conservation Measures remaining in force, see 61 FR 66723, dated December 18, 1996; 63 FR 5587, dated February 3, 1998; 63 FR 300 dated December 22, 1998; 64 FR 71165, dated December 20, 1999; 66 FR 7527, dated January 23, 2001, and 67 FR 2477, dated January 17, 2002.

New and Revised Conservation Measures: At its Twenty-First Meeting in Hobart, Tasmania, October 21 to November 1, 2002, the Commission for the Conservation of Antarctic Marine Living Resources (CCAMLR) revised the following Conservation Measures 29/XIX, 31/X, 32/XIX, 45/XX, 64/XIX, 65/XII, 106/XIX, 118/XX, 147/XIX, 148/XX, 170/XX and 216/XX. In addition, twenty-one measures and two resolutions were adopted. The conservation measures and resolutions adopted at the Twenty-First Meeting follow. For further information, see the CCAMLR Web site at http://www.ccamlr.org under Publications for the Schedule of Conservation Measures in Force (2002/2003), or contact the Commission at the CCAMLR Secretariat, P.O. Box 213, North Hobart, Tasmania 7002, Australia, Tel: (61) 3-6231-0366, Fax: (61) 3-6234-9965.

Conservation Measure 10-03 (2002) ¹ [147/XXI]

Port Inspections of Vessels Carrying Toothfish

1. Contracting Parties shall undertake inspection of all fishing vessels carrying Dissostichus spp. which enter their ports. The inspection shall be for the purpose of determining that if the vessel carried out harvesting activities in the Convention Area, these activities were carried out in accordance with CCAMLR conservation measures, and that if it intends to land or tranship Dissostichus spp. the catch to be unloaded or transhipped is accompanied by a Dissostichus catch document required by Conservation Measure 10-05 [170/XXI], and that the catch agrees with the information recorded on the document.

2. To facilitate these inspections, Contracting Parties shall require vessels to provide advance notice of their entry into port and to convey a written declaration that they have not engaged in or supported illegal, unregulated and unreported (IUU) fishing in the Convention Area. The inspection shall be conducted within 48 hours of port entry and shall be carried out in an expeditious fashion. It shall impose no undue burdens on the vessel or its crew, and shall be guided by the relevant provisions of the CCAMLR System of Inspection. Vessels which either declare that they have been involved in IUU fishing or fail to make a declaration shall be denied port access, other than for emergency purposes.

3. In the event that there is evidence that the vessel has fished in contravention of CCAMLR conservation measures, the catch shall not be landed or transhipped. The Contracting Party will inform the Flag State of the vessel of its inspection findings and will cooperate with the Flag State in taking such appropriate action as is required to investigate the alleged infringement, and, if necessary, apply appropriate sanctions in accordance with national legislation.

4. Contracting Parties shall promptly provide the Secretariat with a report on the outcome of each inspection conducted under this conservation measure. In respect of any vessels denied port access or permission to land or tranship Dissostichus spp., the Secretariat shall promptly convey such reports to all Contracting Parties.

¹ Except for waters adjacent to the Kerguelen and Crozet Islands.

Conservation Measure 10-04 (2002) [148/XXI]

Automated Satellite-Linked Vessel Monitoring Systems (VMS)

The Commission hereby adopts the following conservation measure in accordance with Article IX of the Convention:

1. Each Contracting Party shall maintain an automated Vessel Monitoring System (VMS) to monitor the position of its fishing vessels, which are licensed ¹ in accordance with Conservation Measure 10-02 [119/XX].

2. The implementation of VMS on vessels while participating only in a krill fishery is not currently required.

3. Each Contracting Party, within two working days of receiving the required VMS information, shall provide to the Secretariat dates and the statistical area, subarea or division for each of the following movements of its flag fishing vessels:

(i) Entering and leaving the Convention Area; and

(ii) Crossing boundaries between CCAMLR statistical areas, subareas and divisions.

4. For the purpose of this measure, VMS means a system where, inter alia:

(i) Through the installation of satellite-tracking devices on board its fishing vessels, the Flag State receives automatic transmission of certain information. This information includes the fishing vessel identification, location, date and time, and is collected by the Flag State at least every four hours to enable it to monitor effectively its flag vessels;

(ii) Performance standards provide, as a minimum, that the VMS:

(a) For both the hardware and software components, shall be tamper proof, i.e. shall not permit the input or output of false positions and must not be capable of being manually over-ridden;

(b) Is fully automatic and operational at all times regardless of environmental conditions;

(c) Provides real time data;

(d) Provides the geographical position of the vessel, with a position error of less than 500 m with a confidence interval of 99%, the format being determined by the Flag State; and

(e) In addition to regular messages, provides special messages when the vessel enters or leaves the Convention Area and when it moves between one CCAMLR area, subarea or division within the Convention Area.

5. Contracting Parties shall not issue licences under Conservation Measure 10-02 [119/XX] unless the VMS complies with paragraph 5 in its entirety.

6. In the event of technical failure or other non-function of the VMS, the master or the owner of the fishing vessel, as a minimum:

(i) Shall communicate at least once every 24 hours, starting from the time that this event was detected, the data referred in paragraph 4(i) by telex, by fax, by telephone message or by radio to the Flag State; and

(ii) Shall take immediate steps to have the device repaired or replaced as soon as possible, and, in any event, within two months. If during that period the vessel returns to port it shall not be allowed to commence a further fishing trip without having the defective device repaired or replaced.

7. In the event that the VMS ceases to operate, the Contracting Party as soon as possible shall advise the Executive Secretary of the name of the vessel, the date, time and the location of the vessel when the VMS failed. The Party shall also inform the Executive Secretary when the VMS becomes operational again. The Executive Secretary shall make such information available to Contracting Parties upon request.

8. Contracting Parties shall report to the Secretariat before the start of annual meetings of the Commission, on the VMS which has been introduced in accordance with paragraphs 1 and 2, including its technical details, on:

(i) Any change in the VMS; and

(ii) In accordance with paragraph XI of the CCAMLR System of Inspection, all cases where they have determined, with the assistance of the VMS that vessels of their flag had fished in the Convention Area in possible contravention of CCAMLR conservation measures.

¹ Includes permitted.

Conservation Measure 10-05 (2002) [170/XXI]

Catch Documentation Scheme for Dissostichus spp.

The Commission,

Concerned that illegal, unregulated and unreported (IUU) fishing for Dissostichus spp. in the Convention Area threatens serious depletion of populations of Dissostichus spp.,

Aware that IUU fishing involves significant by-catch of some Antarctic species, including endangered albatross,

Noting that IUU fishing is inconsistent with the objective of the Convention and undermines the effectiveness of CCAMLR conservation measures,

Underlining the responsibilities of Flag States to ensure that their vessels conduct their fishing activities in a responsible manner,

Mindful of the rights and obligations of Port States to promote the effectiveness of regional fishery conservation measures,

Aware that IUU fishing reflects the high value of, and resulting expansion in markets for and international trade in, Dissostichus spp.,

Recalling that Contracting Parties have agreed to introduce classification codes for Dissostichus spp. at a national level,

Recognising that the implementation of a Catch Documentation Scheme for Dissostichus spp. will provide the Commission with essential information necessary to provide the precautionary management objectives of the Convention,

Committed to take steps, consistent with international law, to identify the origins of Dissostichus spp. entering the markets of Contracting Parties and to determine whether Dissostichus spp. harvested in the Convention Area that is imported into their territories was caught in a manner consistent with CCAMLR conservation measures,

Wishing to reinforce the conservation measures already adopted by the Commission with respect to Dissostichus spp.,

Inviting non-Contracting Parties whose vessels fish for Dissostichus spp. to participate in the Catch Documentation Scheme for Dissostichus spp.,

hereby adopts the following conservation measure in accordance with Article IX of the Convention:

1. Each Contracting Party shall take steps to identify the origin of Dissostichus spp. imported into or exported from its territories and to determine whether Dissostichus spp. harvested in the Convention Area that is imported into or exported from its territories was caught in a manner consistent with CCAMLR conservation measures.

2. Each Contracting Party shall require that each master or authorised representative of its flag vessels authorised to engage in harvesting of Dissostichus eleginoides and/or Dissostichus mawsoni complete a Dissostichus catch document for the catch landed or transhipped on each occasion that it lands or tranships Dissostichus spp.

3. Each Contracting Party shall require that each landing of Dissostichus spp. at its ports and each transhipment of Dissostichus spp. to its vessels be accompanied by a completed Dissostichus catch document.

4. Each Contracting Party shall, in accordance with their laws and regulations, require that their flag vessels which intend to harvest Dissostichus spp., including on the high seas outside the Convention Area, are provided with specific authorisation to do so. Each Contracting Party shall provide Dissostichus catch document forms to each of its flag vessels authorised to harvest Dissostichus spp. and only to those vessels.

5. A non-Contracting Party seeking to cooperate with CCAMLR by participating in this scheme may issue Dissostichus catch document forms, in accordance with the procedures specified in paragraphs 6 and 7, to any of its flag vessels that intend to harvest Dissostichus spp.

6. The Dissostichus catch document shall include the following information:

(i) The name, address, telephone and fax numbers of the issuing authority;

(ii) The name, home port, national registry number, and call sign of the vessel and, if issued, its IMO/Lloyd's registration number;

(iii) The reference number of the licence or permit, whichever is applicable, that is issued to the vessel;

(iv) The weight of each Dissostichus species landed or transhipped by product type, and

(a) By CCAMLR statistical subarea or division if caught in the Convention Area; and/or

(b) By FAO statistical area, subarea or division if caught outside the Convention Area;

(v) The dates within which the catch was taken;

(vi) The date and the port at which the catch was landed or the date and the vessel, its flag and national registry number, to which the catch was transhipped; and

(vii) The name, address, telephone and fax numbers of the recipient(s) of the catch and the amount of each species and product type received.

7. Procedures for completing Dissostichus catch documents in respect of vessels are set forth in paragraphs A1 to A10 of Annex 10-05/A [170/A] to this measure. The standard catch document is available on the CCAMLR Web site, http://www.CCAMLR.org, or contact the Office of Sustainable Fisheries at the National Marine Fisheries Service (phone Dean Swanson at 301-713-2276).

8. Each Contracting Party shall require that each shipment of Dissostichus spp. imported into or exported from its territory be accompanied by the export-validated Dissostichus catch document(s) and, where appropriate, validated re-export document(s) that account for all the Dissostichus spp. contained in the shipment.

9. An export-validated Dissostichus catch document issued in respect of a vessel is one that:

(i) Includes all relevant information and signatures provided in accordance with paragraphs A1 to A11 of Annex 10-05/A [170/A] to this measure; and

(ii) Includes a signed and stamped certification by a responsible official of the exporting State of the accuracy of the information contained in the document.

10. Each Contracting Party shall ensure that its customs authorities or other appropriate officials request and examine the documentation of each shipment of Dissostichus spp. imported into or exported from its territory to verify that it includes the export-validated Dissostichus catch document(s) and, where appropriate, validated re-export document(s) that account for all the Dissostichus spp. contained in the shipment. These officials may also examine the content of any shipment to verify the information contained in the catch document or documents.

11. If, as a result of an examination referred to in paragraph 10 above, a question arises regarding the information contained in a Dissostichus catch document or a re-export document the exporting State whose national authority validated the document(s) and, as appropriate, the Flag State whose vessel completed the document are called on to cooperate with the importing State with a view to resolving such question.

12. Each Contracting Party shall promptly provide by the most rapid electronic means copies to the CCAMLR Secretariat of all export-validated Dissostichus catch documents and, where relevant, validated re-export documents that it issued from and received into its territory and shall report annually to the Secretariat data, drawn from such documents, on the origin and amount of Dissostichus spp. exported from and imported into its territory.

13. Each Contracting Party, and any non-Contracting Party that issues Dissostichus catch documents in respect of its flag vessels in accordance with paragraph 5, shall inform the CCAMLR Secretariat of the national authority or authorities (including names, addresses, phone and fax numbers and email addresses) responsible for issuing and validating Dissostichus catch documents.

14. Notwithstanding the above, any Contracting Party, or any non-Contracting Party participating in the Catch Documentation Scheme, may require additional verification of catch documents by Flag States by using, inter alia, VMS, in respect of catches ¹ taken on the high seas outside the Convention Area, when landed at, imported into or exported from its territory.

15. If a Contracting Party participating in the CDS has cause to sell or dispose of seized or confiscated Dissostichus spp., it may issue a Specially Validated Dissostichus Catch Document (SVDCD) specifying the reasons for that validation. The SVDCD shall include a statement describing the circumstances under which confiscated fish are moving in trade. To the extent practicable, Parties shall ensure that no financial benefit arising from the sale of seized or confiscated catch accrue to the perpetrators of IUU fishing. If a Contracting Party issues a SVDCD, it shall immediately report all such validations to the Secretariat for conveying to all Parties and, as appropriate, recording in trade statistics.

16. A Contracting Party may transfer all or part of the proceeds from the sale of seized or confiscated Dissostichus spp. into the CDS Fund created by the Commission or into a national fund which promotes achievement of the objectives of the Convention. A Contracting Party may, consistent with its domestic legislation, decline to provide a market for toothfish offered for sale with a SVDCD by another State. Provisions concerning the uses of the CDS Fund are found in Annex B.

¹ Excluding by-catches of Dissostichus spp. by trawlers fishing on the high seas outside the Convention Area. A by-catch shall be defined as no more than 5% of total catch of all species and no more than 50 tonnes for an entire fishing trip by a vessel.

Annex 10-05/A [170/A]

A1. Each Flag State shall ensure that each Dissostichus catch document form that it issues includes a specific identification number consisting of:

(i) A four-digit number, consisting of the two-digit International Standards Organization (ISO) country code plus the last two digits of the year for which the form is issued; and

(ii) A three-digit sequence number (beginning with 001) to denote the order in which catch document forms are issued.

It shall also enter on each Dissostichus catch document form the number as appropriate of the licence or permit issued to the vessel.

A2. The master of a vessel which has been issued a Dissostichus catch document form or forms shall adhere to the following procedures prior to each landing or transhipment of Dissostichus spp.:

(i) The master shall ensure that the information specified in paragraph 6 of this conservation measure is accurately recorded on the Dissostichus catch document form;

(ii) If a landing or transhipment includes catch of both Dissostichus spp., the master shall record on the Dissostichus catch document form the total amount of the catch landed or transhipped by weight of each species;

(iii) If a landing or transhipment includes catch of Dissostichus spp. taken from different statistical subareas and/or divisions, the master shall record on the Dissostichus catch document form the amount of the catch by weight of each species taken from each statistical subarea and/or division and indicating whether the catch was caught in an EEZ or on the high seas, as appropriate; and

(iv) The master shall convey to the Flag State of the vessel by the most rapid electronic means available, the Dissostichus catch document number, the dates within which the catch was taken, the species, processing type or types, the estimated weight to be landed and the area or areas of the catch, the date of landing or transhipment and the port and country of landing or vessel of transhipment and shall request from the Flag State, a Flag State confirmation number.

A3. If, for catches ¹ taken in the Convention Area or on the high seas outside the Convention Area, the Flag State verifies, by the use of a VMS (as described in paragraphs 5 and 6 of Conservation Measure 10-04 [148/XX]), the area fished and that the catch to be landed or transhipped as reported by its vessel is accurately recorded and taken in a manner consistent with its authorisation to fish, it shall convey a unique Flag State confirmation number to the vessel's master by the most rapid electronic means available. The Dissostichus catch document will receive a confirmation number from the Flag State, only when it is convinced that the information submitted by the vessel fully satisfies the provisions of this conservation measure.

A4. The master shall enter the Flag State confirmation number on the Dissostichus catch document form.

A5. The master of a vessel that has been issued a Dissostichus catch document form or forms shall adhere to the following procedures immediately after each landing or transhipment of Dissostichus spp.:

(i) In the case of a transhipment, the master shall confirm the transhipment by obtaining the signature on the Dissostichus catch document of the master of the vessel to which the catch is transferred;

(ii) In the case of a landing, the master or authorised representative shall confirm the landing by obtaining a signed and stamped certification on the Dissostichus catch document by a responsible official at the port of landing or free trade zone;

(iii) In the case of a landing, the master or authorised representative shall also obtain the signature on the Dissostichus catch document of the individual that receives the catch at the port of landing or free trade zone; and

(iv) In the event that the catch is divided upon landing, the master or authorised representative shall present a copy of the Dissostichus catch document to each individual that receives a part of the catch at the port of landing or free trade zone, record on that copy of the catch document the amount and origin of the catch received by that individual and obtain the signature of that individual.

A6. In respect of each landing or transhipment, the master or authorised representative shall immediately sign and convey by the most rapid electronic means available a copy, or, if the catch landed was divided, copies, of the signed Dissostichus catch document to the Flag State of the vessel and shall provide a copy of the relevant document to each recipient of the catch.

A7. The Flag State of the vessel shall immediately convey by the most rapid electronic means available a copy or, if the catch was divided, copies, of the signed Dissostichus catch document to the CCAMLR Secretariat to be made available by the next working day to all Contracting Parties.

A8. The master or authorised representative shall retain the original copies of the signed Dissostichus catch document(s) and return them to the Flag State no later than one month after the end of the fishing season.

A9.The master of a vessel to which catch has been transhipped (receiving vessel) shall adhere to the following procedures immediately after landing of such catch in order to complete each Dissostichus catch document received from transhipping vessels:

(i) The master of the receiving vessel shall confirm the landing by obtaining a signed and stamped certification on the Dissostichus catch document by a responsible official at the port of landing or free trade zone;

(ii) The master of the receiving vessel shall also obtain the signature on the Dissostichus catch document of the individual that receives the catch at the port of landing or free trade zone; and

(iii) In the event that the catch is divided upon landing, the master of the receiving vessel shall present a copy of the Dissostichus catch document to each individual that receives a part of the catch at the port of landing or free trade zone, record on that copy of the catch document the amount and origin of the catch received by that individual and obtain the signature of that individual.

A10. In respect of each landing of transhipped catch, the master or authorised representative of the receiving vessel shall immediately sign and convey by the most rapid electronic means available a copy of all the Dissostichus catch documents, or if the catch was divided, copies, of all the Dissostichus catch documents, to the Flag State(s) that issued the Dissostichus catch document, and shall provide a copy of the relevant document to each recipient of the catch. The Flag State of the receiving vessel shall immediately convey by the most rapid electronic means available a copy of the document to the CCAMLR Secretariat to be made available by the next working day to all Contracting Parties.

A11. For each shipment of Dissostichus spp. to be exported from the country of landing, the exporter shall adhere to the following procedures to obtain the necessary export validation of the Dissostichus catch document(s) that account for all the Dissostichus spp. contained in the shipment:

(i) The exporter shall enter on each Dissostichus catch document the amount of each Dissostichus spp. reported on the document that is contained in the shipment;

(ii) The exporter shall enter on each Dissostichus catch document the name and address of the importer of the shipment and the point of import;

(iii) The exporter shall enter on each Dissostichus catch document the exporter's name and address, and shall sign the document; and

(iv) The exporter shall obtain a signed and stamped validation of the Dissostichus catch document by a responsible official of the exporting State.

A12. In the case of re-export, the re-exporter shall adhere to the following procedures to obtain the necessary re-export validation of the Dissostichus catch document(s) that account for all the Dissostichus spp. contained in the shipment:

(i) The re-exporter shall supply details of the net weight of product of all species to be re-exported, together with the Dissostichus catch document number to which each species and product relates;

(ii) The re-exporter shall supply the name and address of the importer of the shipment, the point of import and the name and address of the exporter;

(iii) The re-exporter shall obtain a signed and stamped validation of the above details by the responsible official of the exporting State on the accuracy of information contained in the document(s); and

(iv) The responsible official of the exporting state shall immediately transmit by the most rapid electronic means a copy of the re-export document to the Secretariat to be made available next working day to all Contracting Parties.

The standard form for re-export is available on the CCAMLR Web site, http://www.CCAMLR.org, or contact the Office of Sustainable Fisheries at the National Marine Fisheries Service (phone Dean Swanson at 301-713-2276).

¹ Excluding by-catches of Dissostichus spp. by trawlers fishing on the high seas outside the Convention Area. A by-catch shall be defined as no more than 5% of total catch of all species and no more than 50 tonnes for an entire fishing trip by a vessel.

Annex 10-05/B [170/B]

The Use of the CDS Fund

B1. The purpose of the CDS Fund (‘the Fund’) is to enhance the capacity of the Commission in improving the effectiveness of the CDS and by this, and other means, to prevent, deter and eliminate IUU fishing in the Convention Area.

B2. The Fund will be operated according to the following provisions:

(i) The Fund shall be used for special projects, or special needs of the Secretariat if the Commission so decides, aimed at assisting the development and improving the effectiveness of the CDS. The Fund may also be used for special projects and other activities contributing to the prevention, deterrence and elimination of IUU fishing in the Convention Area, and for other such purposes as the Commission may decide.

(ii) The Fund shall be used primarily for projects conducted by the Secretariat, although the participation of Members in these projects is not precluded. While individual Member projects may be considered, this shall not replace the normal responsibilities of Members of the Commission. The Fund shall not be used for routine Secretariat activities.

(iii) Proposals for special projects may be made by Members, by the Commission or the Scientific Committee and their subsidiary bodies, or by the Secretariat. Proposals shall be made to the Commission in writing and be accompanied by an explanation of the proposal and an itemised statement of estimated expenditure.

(iv) The Commission will, at each annual meeting, designate six Members to serve on a Review Panel to review proposals made intersessionally and to make recommendations to the Commission on whether to fund special projects or special needs. The Review Panel will operate by email intersessionally and meet during the first week of the Commission's annual meeting.

(v) The Commission shall review all proposals and decide on appropriate projects and funding as a standing agenda item at its annual meeting.

(vi) The Fund may be used to assist Acceding States and non-Contracting Parties that wish to cooperate with CCAMLR and participate in the CDS, so long as this use is consistent with provisions (i) and (ii) above. Acceding States and non-Contracting Parties may submit proposals if the proposals are sponsored by, or in cooperation with, a Member.

(vii) The Financial Regulations of the Commission shall apply to the Fund, except in so far as these provisions provide or the Commission decides otherwise.

(viii) The Secretariat shall report to the annual meeting of the Commission on the activities of the Fund, including its income and expenditure. Annexed to the report shall be reports on the progress of each project being funded by the Fund, including details of the expenditure on each project. The report will be circulated to Members in advance of the annual meeting.

(ix) Where an individual Member project is being funded according to provision (ii), that Member shall provide an annual report on the progress of the project, including details of the expenditure on the project. The report shall be submitted to the Secretariat in sufficient time to be circulated to Members in advance of the annual meeting. When the project is completed, that Member shall provide a final statement of account certified by an auditor acceptable to the Commission.

(x) The Commission shall review all ongoing projects at its annual meeting as a standing agenda item and reserves the right, after notice, to cancel a project at any time should it decide that it is necessary. Such a decision shall be exceptional, and shall take into account progress made to date and likely progress in the future, and shall in any case be preceded by an invitation from the Commission to the project coordinator to present a case for continuation of funding.

(xi) The Commission may modify these provisions at any time.

Conservation Measure 10-06 (2002) [S01/XXI]

Scheme To Promote Compliance by Contracting Party Vessels With CCAMLR Conservation Measures

The Commission,

Convinced that illegal, unregulated and unreported (IUU) fishing compromises the primary objectives of the Convention,

Aware that a significant number of vessels registered to Parties and non-Parties are engaged in fishing operations in the Convention Area in a manner which diminishes the effectiveness of CCAMLR conservation measures,

Recalling that Parties are required to cooperate in taking appropriate action to deter any fishing activities which are not consistent with the objective of the Convention,

Resolved to reinforce its integrated administrative and political measures aimed at eliminating IUU fishing in the Convention Area,

hereby adopts the following conservation measure in accordance with Article IX.2(i) of the Convention:

1. At each annual meeting, the Commission will identify those Contracting Parties whose vessels have engaged in fishing activities in the Convention Area in a manner which has diminished the effectiveness of CCAMLR conservation measures in force, and shall establish a list of such vessels (IUU Vessel List), in accordance with the procedures and criteria set out hereafter.

2. This identification shall be documented, inter alia, on reports relating to the application of Conservation Measure 10-03 [147/XXI], trade information obtained on the basis of the implementation of Conservation Measure 10-05 [170/XXI] and relevant trade statistics such as FAO and other national or international verifiable statistics, as well as any other information obtained from Port States and/or gathered from the fishing grounds which is suitably documented.

3. For the purposes of this conservation measure, the Contracting Parties are considered as having carried out fishing activities that have diminished the effectiveness of the conservation measures adopted by the Commission if:

(a) The Parties do not ensure compliance by their vessels with the conservation measures adopted by the Commission and in force, in respect of the fisheries in which they participate that are placed under the competence of CCAMLR; and

(b) Their vessels are repeatedly included in the CCAMLR List of Contracting Party vessels identified as carrying out IUU fishing activities in accordance with the criteria and procedures established in this conservation measure.

4. In order to establish the IUU Vessel List, evidence, gathered in accordance with paragraph 2, shall be required that fishing vessels flying the flag of the Contracting Party concerned have:

(a) Engaged in fishing activities in the CCAMLR Convention Area without a licence issued in accordance with Conservation Measure 10-02 [119/XX], or in violation of the conditions under which such licence would have been issued in relation to authorised areas, species and time periods; or

(b) Did not record or did not declare their catches made in the CCAMLR Convention Area in accordance with the reporting system applicable to the fisheries they engaged in, or made false declarations; or

(c) Fished during closed fishing periods or in closed areas in contravention of CCAMLR conservation measures; or

(d) Used prohibited gear in contravention of applicable CCAMLR conservation measures; or

(e) Transhipped or participated in joint fishing operations with other vessels identified by CCAMLR as carrying out IUU fishing activities (i.e. on the IUU Vessel List or in Conservation Measure 10-07 [118/XXI]); or

(f) Engaged in fishing activities in a manner that undermines the attainment of the objectives of the Convention in waters adjacent to islands within the area to which the Convention applies over which the existence of State sovereignty is recognised by all Contracting Parties, in the terms of the statement made by the Chairman on 19 May 1980; or

(g) Engaged in fishing activities contrary to any other CCAMLR conservation measures in a manner that undermines the attainment of the objectives of the Convention according to Article XXII of the Convention.

5. The Executive Secretary shall, before 30 April of each year, draw up a draft list of Contracting Party vessels that, on the basis of the information gathered in accordance with paragraph 2, the criteria defined in paragraph 4, and any other information that the Secretariat might have obtained in relation thereto, might be presumed to have carried out IUU fishing activities in the CCAMLR Convention area during the previous season. The List shall be distributed immediately to the Contracting Parties concerned.

6. Contracting Parties whose vessels are included in the draft list established by the Secretariat will transmit before 30 June to CCAMLR, their comments, as appropriate, including verifiable VMS data and other supporting information showing that the vessels listed have neither engaged in fishing activities in contravention of CCAMLR conservation and management measures nor had the possibility of being engaged in fishing activities in the Convention Area.

7. On the basis of the information received pursuant to paragraph 6, the Executive Secretary shall distribute the draft list and all comments received as a Provisional IUU Vessel List, which shall be transmitted before 31 July to all Contracting Parties together with all the comments and supporting information provided.

8. Contracting Parties may at any time submit to the Executive Secretary any additional information, which might be relevant for the establishment of the IUU Vessel List. The Executive Secretary shall circulate the information at the latest 30 days before the annual meeting to all Contracting Parties together with all the evidence provided.

9. The Standing Committee on Inspection and Compliance (SCIC) shall examine, each year, the Provisional IUU Vessel List as well as the comments and information received, and any further information provided during its annual deliberations which may be considered relevant to this review.

10. SCIC shall recommend that the Commission should remove vessels from the Provisional IUU Vessel List if the Contracting Party proves that:

(a) The vessel did not take part in IUU fishing activities described in paragraph 1; or

(b) It has taken effective action in response to the IUU fishing activities in question, including prosecution and imposition of sanctions of adequate severity; or

(c) The vessel has changed ownership and that the new owner can establish the previous owner no longer has any legal, financial, or real interests in the vessel, or exercises control over it and that the new owner has not participated in IUU fishing; or

(d) The Contracting Party has taken measures considered sufficient to ensure the granting of the right to the vessel to fly its flag will not result in IUU fishing.

11. Following the examination referred to in paragraph 9, SCIC shall submit to the Commission for approval, a proposed IUU Vessel List.

12. On approval of the IUU Vessel List, the Commission shall request Contracting Parties whose vessels appear thereon to take all necessary measures to address these IUU fishing activities, including if necessary, the withdrawal of the registration or of the fishing licences of these vessels, the nullification of the relevant catch documents and denial of further access to the CDS, and to inform the Commission of the measures taken in this respect.

13. The Executive Secretary, SCIC and the Commission shall undertake the procedures established in paragraphs 5 to 12 each year in respect of adding or removing vessels from the IUU Vessel List.

14. Contacting Parties shall take all necessary measures, to the extent possible in accordance with their applicable legislation, in order that:

(a) The issuance of a licence to vessels appearing in the IUU Vessel List to fish in the Convention Area is prohibited;

(b) The issuance of a licence to vessels included in the IUU Vessel List to fish in waters under their fisheries jurisdiction is prohibited;

(c) Fishing vessels, support vessels, mother-ships and cargo vessels flying their flag do not participate in any transhipment or joint fishing operations with vessels registered on the IUU Vessel List;

(d) Vessels appearing in the IUU Vessel List that enter ports voluntarily are not authorised to land or tranship therein and are inspected in accordance with Conservation Measure 10-03 [147/XXI] on so entering;

(e) The chartering of vessels included in the IUU Vessel List is prohibited;

(f) Granting of their flag to vessels appearing in the IUU Vessel List is refused;

(g) Imports of Dissostichus spp. from vessels included in the IUU Vessel List are prohibited;

(h) “Export or Re-export Government Authority Validation” is not verified when the shipment (of Dissostichus spp.) is declared to have been caught by any vessel included in the IUU Vessel List;

(i) Importers, transporters and other sectors concerned, are encouraged to refrain from negotiating and from transhipping of fish caught by vessels appearing in the IUU Vessel List; and

(j) Any appropriate information which is suitably documented is collected and exchanged with other Contracting Parties or cooperating non-Contracting Parties, entities or fishing entities with the aim of detecting, controlling and preventing the use of false import/export certificates regarding fish from vessels appearing in the IUU Vessel List.

15. The Executive Secretary shall place the IUU Vessel List approved by the Commission on a secure section of the CCAMLR website.

16. Without prejudice to the rights of Flag States and Coastal States to take proper action consistent with international law, Contracting Parties should not take any trade measures or other sanctions which are inconsistent with their international obligations against vessels using as the basis for the action the fact that the vessel or vessels have been included in the draft list drawn up by the Secretariat, pursuant to paragraph 5.

17. The Chair of the Commission shall request the Contracting Parties identified pursuant to paragraph 1 to take all necessary measures to avoid diminishing the effectiveness of the CCAMLR conservation measures resulting from their vessels' activities, and to advise the Commission of actions taken in that regard.

18. The Commission shall review, at subsequent annual meetings, as appropriate, action taken by those Contracting Parties to which requests have been made pursuant to paragraph 17, and identify those which have not rectified their fishing activities.

19. The Commission shall decide appropriate measures to be taken in respect to Dissostichus spp. so as to address these issues with those identified Contracting Parties. In this respect, Contracting Parties may cooperate to adopt appropriate multilaterally agreed trade-related measures, consistent with the World Trade Organization (WTO), that may be necessary to prevent, deter and eliminate the IUU fishing activities identified by the Commission. Multilateral trade-related measures may be used to support cooperative efforts to ensure that trade in Dissostichus spp. and its products does not in any way encourage IUU fishing or otherwise undermine the effectiveness of CCAMLR's conservation measures which are consistent with the United Nations Convention on the Law of the Sea 1982.

Conservation Measure 10-07 (2002) [118/XXI]

Scheme To Promote Compliance by Non-Contracting Party Vessels With CCAMLR Conservation Measures

1. The Contracting Parties request non-Contracting Parties to cooperate fully with the Commission with a view to ensuring that the effectiveness of CCAMLR conservation measures is not undermined.

2. At each annual meeting the Commission shall identify those non-Contracting Parties whose vessels are engaged in illegal, unregulated and unreported (IUU) fishing activities in the Convention Area that threaten to undermine the effectiveness of CCAMLR conservation measures, and shall establish a list of such vessels (IUU Vessel List), in accordance with the procedures and criteria set out hereafter.

3. A non-Contracting Party vessel which has been sighted engaging in fishing activities in the Convention Area or which has been denied port access, landing or transhipment in accordance with Conservation Measure 10-03 [147/XXI] is presumed to be undermining the effectiveness of CCAMLR conservation measures. In the case of any transhipment activities involving a sighted non-Contracting Party vessel inside or outside the Convention Area, the presumption of undermining the effectiveness of CCAMLR conservation measures applies to any other non-Contracting Party vessel which has engaged in such activities with that vessel.

4. When the non-Contracting Party vessel referred to in paragraph 2 enters a port of any Contracting Party, it shall be inspected by authorised Contracting Party officials in accordance with Conservation Measure 10-03 [147/XXI] and shall not be allowed to land or tranship any fish species subject to CCAMLR conservation measures it might be holding on board unless the vessel establishes that the fish were caught in compliance with all relevant CCAMLR conservation measures and requirements under the Convention.

5. The Contracting Party which sights the non-Contracting Party vessel or denies it port access, landing or transhipment under paragraph 2 shall attempt to inform the vessel it is presumed to be undermining the objective of the Convention and that this information will be distributed to all Contracting Parties and to the Secretariat, and to the Flag State of the vessel.

6. Information regarding such sightings or denial of port access, landings or transhipments, and the results of all inspections conducted in the ports of Contracting Parties, and any subsequent action shall be transmitted immediately to the Commission in accordance with Article XXII of the Convention. The Secretariat shall transmit this information to all Contracting Parties, within one business day of receiving this information, and to the Flag State of the sighted vessel as soon as possible. At this time, the Secretariat shall, in consultation with the Chair of the Commission, request the Flag State concerned that, where appropriate, measures be taken in accordance with its applicable laws and regulations to ensure that the vessel or vessels in question desist from any activities that undermine the effectiveness of CCAMLR conservation measures, and that the Flag State report back to CCAMLR on the results of such enquiries and/or on the measures it has taken in respect of the vessel or vessels concerned.

7. Contracting Parties may at any time submit to the Executive Secretary any additional information, which might be relevant for the identification of non-Contracting Party vessels that might be carrying out IUU fishing activities in the Convention Area.

8. The Standing Committee on Inspection and Compliance (SCIC) shall review the information received pursuant to paragraphs 3, 4 and 5, and any other information provided during its annual deliberations which may be considered relevant to this review.

9. Following the review referred to in paragraph 6, SCIC shall submit to the Commission for approval, a proposed IUU Vessel List.

10. The Executive Secretary, SCIC and the Commission shall undertake each year the procedures set out in this conservation measure in respect of adding or removing vessels from the IUU Vessel List. In this regard, SCIC shall recommend that the Commission removes vessels from the list approved in a previous annual meeting if the relevant Flag State satisfies the Commission that:

(a) The vessel did not take part in IUU fishing activities described in paragraph 1; or

(b) It has taken effective action in response to the IUU fishing activities in question, including prosecution and imposition of sanctions of adequate severity; or

(c) The vessel has changed ownership and that the new owner can establish the previous owner no longer has any legal, financial, or real interests in the vessel, or exercises control over it and that the new owner has not participated in IUU fishing; or

(d) The Flag State has taken measures considered sufficient to ensure the granting of the right to the vessel to fly its flag will not result in IUU fishing.

11. Contracting Parties shall take all necessary measures, to the extent possible in accordance with their applicable legislation, in order that:

(a) The issuance of a licence to vessels included in the IUU Vessel List to fish in waters under their fisheries jurisdiction is prohibited;

(b) Fishing vessels, support vessels, mother-ships and cargo vessels flying their flag do not participate in any transhipment or joint fishing operations with vessels registered in the IUU Vessel List;

(c) Vessels appearing in the IUU Vessel List that enter ports are not authorised to land or tranship therein and are inspected in accordance with Conservation Measure 10-03 [147/XXI] on so entering;

(d) The chartering of vessels included in the IUU Vessel List is prohibited;

(e) Granting of their flag to vessels appearing in the IUU Vessel List is refused;

(f) Imports of Dissostichus spp. from vessels included in the IUU Vessel List are prohibited;

(g) “Export or Re-export Government Authority Validation” is not verified when the shipment (of Dissostichus spp.) is declared to have been caught by any vessel included in the IUU Vessel List;

(h) Importers, transporters and other sectors concerned, are encouraged to refrain from negotiating and from transhipping of fish caught by vessels appearing in the IUU Vessel List; and

(i) Any appropriate information is collected and exchanged with other Contracting Parties or cooperating non-Contracting Parties, entities or fishing entities with the aim of detecting, controlling and preventing the use of false import/export certificates regarding fish from vessels appearing in the IUU Vessel List.

12. The Executive Secretary shall place the IUU Vessel List on a secure section of the CCAMLR website.

13. The Commission shall request those non-Contracting Parties identified pursuant to paragraph 1, to immediately take steps to address the IUU fishing activities of the vessels flying their flag that have been included in the IUU Vessel List, including if necessary, the withdrawal of the registration or of the fishing licences of these vessels, the nullification of the relevant catch documents and denial of further access to the Catch Documentation Scheme for Dissostichus spp. (CDS), and to inform the Commission of the measures taken in this respect.

14. Contracting Parties shall jointly and/or individually request non-Contracting Parties identified pursuant to paragraph 1, to cooperate fully with the Commission in order to avoid undermining the effectiveness of conservation measures adopted by the Commission.

15. The Commission shall review, at subsequent annual meetings as appropriate, actions taken by those non-Contracting Parties identified pursuant to paragraph 1 to which requests have been made pursuant to paragraphs 13 and 14, and identify those which have not rectified their fishing activities.

16. The Commission shall decide appropriate measures to be taken in respect to Dissostichus spp. so as to address these issues with those identified non-Contracting Parties. In this respect, non-Contracting Parties may cooperate to adopt appropriate multilaterally agreed trade-related measures, consistent with the World Trade Organization (WTO), that may be necessary to prevent, deter and eliminate the IUU fishing activities identified by the Commission. Multilateral trade-related measures may be used to support cooperative efforts to ensure that trade in Dissostichus spp. and its products does not in any way encourage IUU fishing or otherwise undermine the effectiveness of CCAMLR's conservation measures which are consistent with the United Nations Convention on the Law of the Sea 1982.

Conservation Measure 21-01 (2002) ¹, ² [31/XXI]

Notification That Members Are Considering Initiating a New Fishery

The Commission,

Recognising that in the past, Antarctic fisheries have been initiated in the Convention Area before sufficient information was available upon which to base management advice,

Noting that in recent years new fisheries have started without adequate information being available to evaluate either the fishery potential or the possible impacts on the target stocks or species dependent on them,

Believing that without prior notification of a new fishery, the Commission is unable to fulfil its function under Article IX,

hereby adopts the following conservation measure in accordance with Article IX of the Convention:

1. A new fishery, for the purposes of this conservation measure, is a fishery on a species using a particular fishing method in a statistical subarea for which:

(i) Information on distribution, abundance, demography, potential yield and stock identity from comprehensive research/surveys or exploratory fishing have not been submitted to CCAMLR; or

(ii) Catch and effort data have never been submitted to CCAMLR; or

(iii) Catch and effort data from the two most recent seasons in which fishing occurred have not been submitted to CCAMLR.

2. A Member intending to develop a new fishery shall notify the Commission not less than three months in advance of the next regular meeting of the Commission, where the matter shall be considered. The Member shall not initiate a new fishery pending the process specified in paragraphs 5 and 6 below.

3. The notification shall be accompanied by as much of the following information as the Member is able to provide:

(i) The nature of the proposed fishery including target species, methods of fishing, proposed region and any minimum level of catches that would be required to develop a viable fishery;

(ii) Biological information from comprehensive research/survey cruises, such as distribution, abundance, demographic data and information on stock identity;

(iii) Details of dependent and associated species and the likelihood of them being affected by the proposed fishery; and

(iv) Information from other fisheries in the region or similar fisheries elsewhere that may assist in the valuation of potential yield.

4. New fisheries shall be open only to those vessels that are equipped and configured so that they can comply with all relevant conservation measures. A vessel with a confirmed involvement in illegal, unregulated or unreported fishing in respect of Conservation Measures 10-06 and 10-07 [S01/XXI and 118/XXI] shall not be permitted to participate in new fisheries.

5. The information provided in accordance with paragraph 3, together with any other relevant information, shall be considered by the Scientific Committee, which shall then advise the Commission.

6. After its review of the information on the proposed new fishery, taking full account of the recommendations and the advice of the Scientific Committee, the Commission may then take such action as it deems necessary.

¹ Except for waters adjacent to the Kerguelen and Crozet Islands.

² Except for waters adjacent to the Prince Edward Islands.

Conservation Measure 21-02 (2002) ¹, ² [65/XXI]

Exploratory Fisheries

The Commission,

Recognising that in the past, some Antarctic fisheries had been initiated and subsequently expanded in the Convention Area before sufficient information was available upon which to base management advice, and

Agreeing that exploratory fishing should not be allowed to expand faster than the acquisition of information necessary to ensure that the fishery can and will be conducted in accordance with the principles set forth in Article II,

hereby adopts the following conservation measure in accordance with Article IX of the Convention:

1. For the purposes of this conservation measure, exploratory fisheries are defined as follows:

(i) An exploratory fishery shall be defined as a fishery that was previously classified as a “new fishery'', as defined by Conservation Measure 21-01 [31/XXI];

(ii) An exploratory fishery shall continue to be classified as such until sufficient information is available:

(a) To evaluate the distribution, abundance, and demography of the target species, leading to an estimate of the fishery's potential yield;

(b) To review the fishery's potential impacts on dependent and related species; and

(c) To allow the Scientific Committee to formulate and provide advice to the Commission on appropriate harvest catch levels, as well as effort levels and fishing gear, where appropriate.

2. To ensure that adequate information is made available to the Scientific Committee for evaluation, during the period when a fishery is classified as exploratory:

(i) The Scientific Committee shall develop (and update annually as appropriate) a Data Collection Plan, which will identify the data needed and describe the actions necessary to obtain the relevant data from the exploratory fishery;

(ii) Each Member active in the fishery shall annually (by the specified date) submit to CCAMLR the data specified by the Data Collection Plan developed by the Scientific Committee;

(iii) Each Member active in the fishery or intending to authorise a vessel to enter the fishery shall annually prepare and submit to CCAMLR by a specified date a Research and Fishery Operations Plan for review by the Scientific Committee and the Commission;

(iv) Prior to any Member authorising its vessels to enter an exploratory fishery that is already in progress, that Member shall notify the Commission not less than three months in advance of the next regular meeting of the Commission, and the Member shall not enter the exploratory fishery until the conclusion of that meeting;

(v) If the data specified in the Data Collection Plan have not been submitted to CCAMLR for the most recent season in which fishing occurred, continued exploratory fishing by the Member which failed to report its data shall be prohibited until the relevant data have been submitted to CCAMLR and the Scientific Committee has been allowed an opportunity to review the data;

(vi) Fishing capacity and effort shall be limited by a precautionary catch limit at a level not substantially above that necessary to obtain the information specified in the Data Collection Plan and required to make the evaluations outlined in paragraph 1(ii);

(vii) The name, type, size, registration number, and radio call sign of each vessel participating in the exploratory fishery shall be registered with the CCAMLR Secretariat at least three months in advance of starting fishing each season; and

(viii) Each vessel participating in the exploratory fishery shall carry a scientific observer to ensure that data are collected in accordance with the agreed Data Collection Plan, and to assist in collecting biological and other relevant data.

3. The Data Collection Plan to be formulated and updated by the Scientific Committee shall include, where appropriate:

(i) A description of the catch, effort, and related biological, ecological, and environmental data required to undertake the evaluations described in paragraph 1(ii), and the date by which such data are to be reported annually to CCAMLR;

(ii) A plan for directing fishing effort during the exploratory phase to permit the acquisition of relevant data to evaluate the fishery potential and the ecological relationships among harvested, dependent, and related populations and the likelihood of adverse impacts; and

(iii) An evaluation of the time-scales involved in determining the responses of harvested, dependent and related populations to fishing activities.

4. Research and Fisheries Operations Plans to be prepared by Members participating or intending to participate in the exploratory fishery shall include as much of the following information as the Member is able to provide:

(i) A description of how the Member's activities will comply with the Data Collection Plan developed by the Scientific Committee;

(ii) The nature of the exploratory fishery, including target species, methods of fishing, proposed region and maximum catch levels proposed for the forthcoming season;

(iii) Biological information from comprehensive research/survey cruises, such as distribution, abundance, demographic data, and information on stock identity;

(iv) Details of dependent and related species and the likelihood of them being affected by the proposed fishery; and

(v) Information from other fisheries in the region or similar fisheries elsewhere that may assist in the evaluation of potential yield.

5. Exploratory fisheries shall be open only to those vessels that are equipped and configured so that they can comply with all relevant conservation measures. A vessel with a confirmed involvement in illegal, unregulated or unreported fishing in respect of Conservation Measures 10-06 and 10-07 [S01/XXI and 118/XXI] shall not be permitted to participate in exploratory fisheries.

¹ Except for waters adjacent to the Kerguelen and Crozet Islands.

² Except for waters adjacent to the Prince Edward Islands.

Conservation Measure 23-06 (2002) [F21/XXI]

Data Reporting System for Krill Fisheries

1. This conservation measure is invoked by the conservation measures to which it is attached.

2. Catches shall be reported to the Commission on a monthly basis.

3. At the end of each fishing season each Contracting Party shall obtain from each of its vessels the data required to complete the CCAMLR fine-scale catch and effort data form (trawl fisheries Form C1). It shall aggregate these data by 10 × 10 n mile rectangle and 10-day period, and transmit those data in the specified format to the Executive Secretary not later than 1 April of the following year.

4. For the purposes of the fine-scale data the calendar month shall be divided into three 10-day reporting periods, viz: day 1 to day 10, day 11 day 20, day 21 to the last day of the month. These 10-day reporting periods are hereinafter referred to as periods A, B and C.

Conservation Measure 24-01 (2002) ¹, ² [64/XXI]

The Application of Conservation Measures to Scientific Research

This conservation measure governs the application of conservation measures to scientific research and is adopted in accordance with Article IX of the Convention.

1. General application:

(a) Catches taken by any vessel for research purposes will be considered as part of any catch limits in force for each species taken, and shall be reported to CCAMLR as part of the annual STATLANT returns.

(b) The CCAMLR within-season catch and effort reporting systems shall apply whenever the catch within a specified reporting period exceeds five tonnes, unless more specific regulations apply to the particular species.

2. Application to vessels taking less than 50 tonnes of finfish including no more than the amounts specified for finfish taxa in Annex 24-01/B [64/B] and less than 0.1% of a given catch limit for non-finfish taxa indicated in Annex 24-01/B [64/B]:

(a) Any Member planning to use a vessel for research purposes when the estimated catch is as above shall notify the Secretariat of the Commission which in turn will notify all Members immediately. This notification shall be included in the Members' Activities Reports.

(b) Vessels to which the provisions of paragraph 2(a) above apply, shall be exempt from conservation measures relating to mesh size regulations, prohibition of types of gear, closed areas, fishing seasons and size limits, and reporting system requirements other than those specified in paragraphs 1(a) and (b) above.

3. Application to vessels taking more than 50 tonnes of finfish or more than the amounts specified for finfish taxa in Annex 24-01/B [64/B] or more than 0.1% of a given catch limit for non-finfish taxa indicated in Annex 24-01/B [64/B]:

(a) Any Member planning to use any type of vessel to conduct fishing for research purposes when the estimated catch is as above, shall notify the Commission and provide the opportunity for other Members to review and comment on its research plan. The plan shall be provided to the Secretariat for distribution to Members at least six months in advance of the planned starting date for the research. In the event of any request for a review of such plan being lodged within two months of its circulation, the Executive Secretary shall notify all Members and submit the plan to the Scientific Committee for review. Based on the submitted research plan and any advice provided by the appropriate working group, the Scientific Committee will provide advice to the Commission where the review process will be concluded. Until the review process is complete the planned fishing for research purposes shall not proceed.

(b) Research plans shall be reported in accordance with the standardised guidelines and formats adopted by the Scientific Committee, available on the CCAMLR Web site at http://www.ccamlr.org or from the Southwest Fisheries Science Center of the National Marine Fisheries Service (call (858) 546-5600).

(c) A summary of the results of any research subject to these provisions shall be provided to the Secretariat within 180 days of the completion of the research fishing. A full report shall be provided within 12 months.

(d) Catch and effort data resulting from research fishing in accordance with paragraph (a) above, should be reported to the Secretariat according to the haul-by-haul reporting format for research vessels (C4).

¹ Except for waters adjacent to the Kerguelen and Crozet Islands.

² Except for waters adjacent to the Prince Edward Islands.

Annex 24-01/B [64/B]

Taxa-Specific Schedule for Notification of Research Vessel Activity

Taxon | Expected catch
(a) Thresholds for finfish taxa: Dissostichus spp | 10 tonnes.
(b) Non-finfish taxa for which a catch threshold of 0.1% of the catch limit for a given area would apply: Krill, Squid, Crabs.

Conservation Measure 24-02 (2002) [216/XXI]

Experimental Line-Weighting Trials

In respect of fisheries in Statistical Subareas 48.6 south of 60°S, 88.1 and 88.2 and Division 58.4.2, paragraph 3 of Conservation Measure 25-02 [29/XXI] shall not apply only where a vessel can demonstrate prior to licensing for this fishery its ability to fully comply with either of the following experimental protocols.

Protocol A

A1. The vessel shall, under observation by a scientific observer:

(i) Set a minimum of five longlines with a minimum of four Time Depth Recorders (TDR) on each line;

(ii) Randomise TDR placement on the longline within and between sets;

(iii) Calculate an individual sink rate for each TDR when returned to the vessel, where:

(a) The sink rate shall be measured as an average of the time taken to sink from the surface (0m) to 15 m; and

(b) This sink rate shall be at a minimum rate of 0.3 m/s;

(iv) If the minimum sink rate is not achieved at all 20 sample points, repeat the test until such time as a total of 20 tests with a minimum sink rate of 0.3 m/s are recorded; and

(v) All equipment and fishing gear used in the tests is to be the same as that to be used in the Convention Area.

A2. During fishing, for a vessel to maintain the exemption to night-time setting requirements, continuous line sink monitoring shall be undertaken by the CCAMLR scientific observer. The vessel shall cooperate with the CCAMLR observer who shall:

(i) Aim to place a TDR on every longline set during the observer's shift;

(ii) Every seven days place all available TDRs on a single longline to determine any sink rate variation along the line;

(iii) Randomise TDR placement on the longline within and between sets;

(iv) Calculate an individual rate for each TDR when returned to the vessel; and

(v) Measure the sink rate as an average of the time taken to sink from the surface (0 m) to 15 m.

A3. The vessel shall:

(i) Ensure the average sink rate is at a minimum of 0.3 m/s;

(ii) Report daily to the fishery manager; and

(iii) Ensure that data collected from line sink trials is recorded in the approved format and submitted to the fishery manager at the conclusion of the season.

Protocol B

B1. The vessel shall, under observation by a scientific observer:

(i) Set a minimum of five longlines of the maximum length to be used in the Convention Area with a minimum of four bottle tests (see paragraphs B5 to B9) on the middle one-third of the longline;

(ii) Randomise bottle test placement on the longline within and between sets, noting that all tests should be applied halfway between weights;

(iii) Calculate an individual sink rate for each bottle test, where the sink rate shall be measured as the time taken for the longline to sink from the surface (0 m) to 10 m;

(iv) This sink rate shall be at a minimum rate of 0.3 m/s;

(v) If the minimum sink rate is not achieved at all 20 sample points (four tests on five lines), continue testing until such time as a total of 20 tests with a minimum sink rate of 0.3 m/s are recorded; and

(vi) All equipment and fishing gear used in the tests is to be to the same specifications as that to be used in the Convention Area.

B2. During fishing, for a vessel to maintain the exemption to paragraph 3 of Conservation Measure 25-02 [29/XXI], regular line sink rate monitoring shall be undertaken by the CCAMLR scientific observer. The vessel shall cooperate with the CCAMLR observer who shall:

(i) Aim to conduct a bottle test on every longline set during the observer's shift, noting that the test should be undertaken on the middle one-third of the line;

(ii) Every seven days place at least four bottle tests on a single longline to determine any sink rate variation along the line;

(iii) Randomise bottle test placement on the longline within and between sets, noting that all tests should be applied halfway between weights;

(iv) Calculate an individual sink rate for each bottle test; and

(v) Measure the line sink rate as the time taken for the line to sink from the surface (0 m) to 10 m.

B3. The vessel shall whilst operating under this exemption:

(i) Ensure that all longlines are weighted to achieve a minimum line sink rate of 0.3 m/s at all times;

(ii) Report daily to its national agency on the achievement of this target; and

(iii) Ensure that data collected from line sink rate monitoring are recorded in the approved format and submitted to the relevant national agency at the conclusion of the season.

B4. A bottle test is to be conducted as described below.

Bottle Set Up

B5. 10 m of 2 mm multifilament nylon snood twine, or equivalent, is securely attached to the neck of a 750 ml plastic bottle ¹ (buoyancy about 0.7 kg) with a longline clip attached to the other end. The length measurement is taken from the attachment point (terminal end of the clip) to the neck of the bottle, and should be checked by the observer every few days.

B6. Reflective tape should be wrapped around the bottle to allow it to be observed at night. A piece of waterproof paper with a unique identifying number large enough to be read from a few metres away should be placed inside the bottle.

Test

B7. The bottle is emptied of water, the stopper is left open and the twine is wrapped around the body of the bottle for setting. The bottle with the encircled twine is attached to the longline ², midway between weights (the attachment point).

B8. The observer records the time at which the attachment point enters the water as t1 in seconds. The time at which the bottle is observed to be pulled completely under is recorded as t2 in seconds ³. The result of the test is calculated as follows:

Line sink rate = 10 / (t2—t1)

B9. The result should be equal to or greater than 0.3 m/s. These data are to be recorded in the space provided in the electronic observer logbook.

¹ A plastic water bottle that has a hard plastic screw-on ‘stopper’ is needed. The stopper of the bottle is left open so that the bottle will fill with water after being pulled under water. This allows the plastic bottle to be re-used rather than being crushed by water pressure. ² On autolines attach to the backbone; on the Spanish longline system attach to the hookline. ³ Binoculars will make this process easier to view, especially in foul weather.

Conservation Measure 25-02 (2002) ¹,² [29/XXI]

Minimisation of the Incidental Mortality of Seabirds in the Course of Longline Fishing or Longline Fishing Research in the Convention Area

The Commission,

Noting the need to reduce the incidental mortality of seabirds during longline fishing by minimising their attraction to fishing vessels and by preventing them from attempting to seize baited hooks, particularly during the period when the lines are set,

Adopts the following measures to reduce the possibility of incidental mortality of seabirds during longline fishing.

1. Fishing operations shall be conducted in such a way that the baited hooks sink as soon as possible after they are put in the water. Only thawed bait shall be used.

2. For vessels using the Spanish method of longline fishing, weights should be released before line tension occurs; weights of at least 8.5 kg mass shall be used, spaced at intervals of no more than 40 m, or 6 kg mass shall be used, spaced at intervals of no more than 20 m.

3. Longlines shall be set at night only (i.e. during the hours of darkness between the times of nautical twilight ³)⁴. During longline fishing at night, only the minimum ship's lights necessary for safety shall be used.

4. The dumping of offal is prohibited while longlines are being set. The dumping of offal during the haul shall be avoided. Any such discharge shall take place only on the opposite side of the vessel to that where longlines are hauled. For vessels or fisheries where there is not a requirement to retain offal on board the vessel, fish hooks should be removed from offal and fish heads prior to discharge.

5. Vessels which are so configured that they lack on-board processing facilities or adequate capacity to retain offal on board, or the ability to discharge offal on the opposite side of the vessel to that where longlines are hauled, shall not be authorised to fish in the Convention Area.

6. A streamer line designed to discourage birds from settling on baits during deployment of longlines shall be towed. Specification of the streamer line and its method of deployment is given in the appendix to this measure. Details of the construction relating to the number and placement of swivels may be varied so long as the effective sea surface covered by the streamers is no less than that covered by the currently specified design. Details of the device dragged in the water in order to create tension in the line may also be varied.

7. Other variations in the design of streamer lines may be tested on vessels carrying two observers, at least one appointed in accordance with the CCAMLR Scheme of International Scientific Observation, providing that all other elements of this conservation measure are complied with ⁵.

8. Every effort should be made to ensure that birds captured alive during longlining are released alive and that wherever possible hooks are removed without jeopardising the life of the bird concerned.

¹ Except for waters adjacent to the Kerguelen and Crozet Islands. ² Except for waters adjacent to the Prince Edward Islands. ³ The exact times of nautical twilight are set forth in the Nautical Almanac tables for the relevant latitude, local time and date. All times, whether for ship operations or observer reporting, shall be referenced to GMT. ⁴ Wherever possible, setting of lines should be completed at least three hours before sunrise (to reduce loss of bait to/catches of white-chinned petrels). ⁵ The streamer lines under test should be constructed and operated taking full account of the principles set out in WG-IMALF-94/19 (available from the CCAMLR Secretariat); testing should be carried out independently of actual commercial fishing and in a manner consistent with the spirit of Conservation Measure 21-02 [65/XXI].

Appendix to Conservation Measure 25-02 [29/XXI]

1. The streamer line is to be suspended at the stern from a point approximately 4.5 m above the water and such that the line is directly above the point where the baits hit the water.

2. The streamer line is to be approximately 3 mm diameter, have a minimum length of 150 m and have a device at the end to create tension so that the main line streams directly behind the ship even in cross winds.

3. At 5 m intervals commencing from the point of attachment to the ship five branch streamers each comprising two strands of approximately 3 mm diameter cord should be attached. The length of the streamer should range between approximately 3.5 m nearest the ship to approximately 1.25 m for the fifth streamer. When the streamer line is deployed the branch streamers should reach the sea surface and periodically dip into it as the ship heaves. Swivels should be placed in the streamer line at the towing point, before and after the point of attachment of each branch streamer and immediately before any weight placed on the end of the streamer line. Each branch streamer should also have a swivel at its attachment to the streamer line.

Conservation Measure 32-09 (2002) ¹ [F01/XXI]

Prohibition of Directed Fishing for Dissostichus spp. Except in Accordance With Specific Conservation Measures in the 2002/03 Season

The Commission hereby adopts the following conservation measure in accordance with Article IX of the Convention:

Directed fishing for Dissostichus spp. in Statistical Subareas 48.5, 88.2 north of 65°S and 88.3, and Divisions 58.4.1, 58.5.1 and 58.5.1 and 58.5.2 east of 79°20′E is prohibited from 1 December 2002 to 30 November 2003.

¹ Except for waters adjacent to the Kerguelen Islands.

Conservation Measure 32-10 (2002) [F16/XXI]

Prohibition of Directed Fishing for Dissostichus spp. in Statistical Division 58.4.4 Outside Areas of National Jurisdiction

Taking of Dissostichus spp., other than for scientific research purposes in accordance with Conservation Measure 24-01 [64/XXI], is prohibited in Statistical Division 58.4.4 from 1 December 2002. This prohibition shall apply until at least such time that a survey of the Dissostichus spp. stock in this division is carried out, its results reported to and analysed by the Working Group on Fish Stock Assessment and a decision that the fishery be reopened is made by the Commission based on the advice of the Scientific Committee.

Conservation Measure 32-11 (2002) ¹,² [F17/XXI]

Prohibition of Directed Fishing for Dissostichus Eleginoides in Statistical Subarea 58.6

Taking of Dissostichus eleginoides, other than for scientific research purposes in accordance with Conservation Measure 24-01 [64/XXI], is prohibited in Statistical Subarea 58.6 from 1 December 2002. This prohibition shall apply until at least such time that a survey of the Dissostichus eleginoides stock in this subarea is carried out, its results reported to and analysed by the Working Group on Fish Stock Assessment and a decision that the fishery be reopened is made by the Commission based on the advice of the Scientific Committee.

¹ Except for waters adjacent to the Prince Edward Islands.

² Except for waters adjacent to the Crozet Islands.

Conservation Measure 33-02 (2002) [F04/XXI]

Limitation of By-Catch in Statistical Division 58.5.2 in the 2002/03 Season

1. There shall be no directed fishing for any species other than Dissostichus eleginoides and Champsocephalus gunnari in Statistical Division 58.5.2 in the 2002/03 fishing season.

2. In directed fisheries in Statistical Division 58.5.2 in the 2002/03 season, the by-catch of Channichthys rhinoceratus shall not exceed 150 tonnes, the by-catch of Lepidonotothen squamifrons shall not exceed 80 tonnes, the by-catch of Macrourus spp. shall not exceed 465 tonnes and the by-catch of skates and rays shall not exceed 120 tonnes. For the purposes of this measure, “Macrourus spp.” and “skates and rays” should each be counted as a single species.

3. The by-catch of any fish species not mentioned in paragraph 2, and for which there is no other catch limit in force, shall not exceed 50 tonnes in Statistical Division 58.5.2.

4. If, in the course of a directed fishery, the by-catch in any one haul of Channichthys rhinoceratus, Lepidonotothen squamifrons, Macrourus spp. or skates and rays is equal to, or greater than 2 tonnes, then the fishing vessel shall not fish using that method of fishing at any point within 5 n miles ¹ of the location where the by-catch exceeded 2 tonnes for a period of at least five days.² The location where the by-catch exceeded 2 tonnes is defined as the path followed by the fishing vessel from the point at which the fishing gear was first deployed from the fishing vessel to the point at which the fishing gear was retrieved by the fishing vessel.

5. If, in the course of a directed fishery, the by-catch in any one haul of any other by-catch species for which by-catch limitations apply under this conservation measure is equal to, or greater than 1 tonne, then the fishing vessel shall not fish using that method of fishing at any point within 5 n miles ¹ of the location where the by-catch exceeded 1 tonne for a period of at least five days.² The location where the by-catch exceeded 1 tonne is defined as the path followed by the fishing vessel from the point at which the fishing gear was first deployed from the fishing vessel to the point at which the fishing gear was retrieved by the fishing vessel.

¹ This provision concerning the minimum distance separating fishing locations is adopted pending the adoption of a more appropriate definition of a fishing location by the Commission.

² The Specified period is adopted in accordance with the reporting period specified in Conservation Measure 23-01 [51/XIX], pending the adoption of a more appropriate period by the Commission.

Conservation Measure 33-03 (2002) ¹ [F11/XXI]

Limitation of By-Catch in New and Exploratory Fisheries in the 2002/03 Season

1. This conservation measure applies to new and exploratory fisheries in all areas containing small-scale research units (SSRUs) in the 2002/03 season except where specific by-catch conservation measures apply.

2. The catch limits for all by-catch species are set out in Annex 33-03/A [F11/A].

3. For the purposes of this measure “Macrourus spp.” and “skates and rays” should each be counted as a single species.

4. If the by-catch of any one species is equal to or greater than 1 tonne in any one haul or set, then the fishing vessel shall move to another location at least 5 n miles ² distant. The fishing vessel shall not return to any point within 5 n miles of the location where the by-catch exceeded 1 tonne is defined as the path followed by the fishing vessel from the point at which the fishing gear was first deployed from the fishing vessel to the point at which the fishing gear was retrieved by the fishing vessel.

¹ Except for waters adjacent to the Kerguelen and Crozet Islands.

² This provision concerning the minimum distance separating fishing locations is adopted pending the adoption of a more appropriate definition of a fishing location by the Commission.

³ The specified period is adopted in accordance with the reporting period specified in Conservation Measure 23-01 [51/XIX], pending the adoption of a more appropriate period by the Commission.

Annex 33-03/A [F11/A]

By-Catch Catch Limits for New and Exploratory Fisheries in the 2002/03 Season
Subarea/ Division | Region | SSRU | Dissostichus spp. catch limit (tonnes) | By-catch catch limit (tonnes): Skates and rays | By-catch catch limit (tonnes): Macrourus spp. | By-catch catch limit (tonnes): Other species
48.6 | North of 60°S | A | 455 | 50 | 73 | 20
| South of 60°S | all | 455 | 50 | 73
|  | B | * | * | * | 20
|  | C | * | * | * | 20
|  | D | * | * | * | 20
|  | E | * | * | * | 20
|  | F | * | * | * | 20
58.4.2 |  | A | 100 | 50 | 50 | 20
|  | B | 100 | 50 | 50 | 20
|  | C | 100 | 50 | 50 | 20
|  | D | 100 | 50 | 50 | 20
|  | E | 100 | 50 | 50 | 20
58.4.3a | Total area |  | 250 | 50 | 50 | 20
58.4.3b | Total area |  | 300 | 50 | 50 | 20
88.1 | North of 65°S | A | 256 | 50 | 50 | 20
| South of 65°S | B | 876 | 50 | 140 | 20
|  | C | 876 | 50 | 140 | 20
|  | D | 876 | 50 | 140 | 20
|  | E | 876 | 50 | 140 | 20
88.2 |  | all | 375 | 50 | 60
|  | A | * | * | * | 20
|  | B | * | * | * | 20
|  | C | * | * | * | 20
|  | D | * | * | * | 20
|  | E | * | * | * | 20
|  | F | * | * | * | 20
|  | G | * | * | * | 20
*In the case where a SSRU catch limit is not specified, the by-catch limit will be governed by the limit in the subarea/division.
Rules for catch limits for by-catch species:
Skates and rays—5% of the catch limit for Dissostichus spp. or 50 tonnes, whichever is greater.
Macrourus spp.—16% of the catch limit for Dissostichus spp. or 50 tonnes, whichever is greater.
Other species—20 tonnes per SSRU.

Conservation Measure 41-01 (2002) ¹, ²

General Measures for Exploratory Fisheries for Dissostichus Spp. in the Convention Area in the 2002/03 Season

The Commission,

Noting the need for the distribution of fishing effort and catch in fine-scale rectangles ³ in these exploratory fisheries,

hereby adopts the following conservation measure:

1. This conservation measure applies to exploratory fisheries using the trawl or longline methods except for such fisheries where the Commission has given specific exemptions to the extent of those exemptions. In trawl fisheries, a haul comprises a single deployment of the trawl net. In longline fisheries, a haul comprises the setting of one or more lines in a single location.

2. Fishing should take place over as large a geographical and bathymetric range as possible to obtain the information necessary to determine fishery potential and to avoid over-concentration of catch and effort. To this end, fishing in any fine-scale rectangle shall cease when the reported catch reaches 100 tonnes and that rectangle shall be closed to fishing for the remainder of the season. Fishing in any fine-scale rectangle shall be restricted to one vessel at any one time.

3. Each haul of a longline, including those designated as research hauls in accordance with Annex 41-01/B [F10/B] paragraph 4, shall have, except in exceptional circumstances beyond the control of the vessel (such as ice and weather conditions), a soak time not exceeding 48 hours, measured from the completion of the setting process to the beginning of the hauling process.

4. In order to give effect to paragraph 2 above:

(i) The precise geographic position of a haul in trawl fisheries will be determined by the mid-point of the path between the start-point and end-point of the haul;

(ii) The precise geographic position of a haul in longline fisheries will be determined by the centre-point of the line or lines deployed;

(iii) The fine-scale rectangle in which a vessel is deemed to be fishing will be that in which the precise geographic position of a haul lies;

(iv) The vessel will be deemed to be fishing in any fine-scale rectangle from the beginning of the setting process until the completion of the hauling of all lines in that fine-scale rectangle;

(v) Catch and effort information for each species by fine-scale rectangle shall be reported to the Executive Secretary every five days using the Five-Day Catch and Effort Reporting System set out in Conservation Measure 23-01 [51/XIX]; and

(vi) The Secretariat shall notify Contracting Parties participating in these fisheries when the total catch for Dissostichus eleginoides and Dissostichus mawsoni combined in any fine-scale rectangle is likely to reach 100 tonnes, and fishing in that fine-scale rectangle shall be closed when that limit is reached.

5. The by-catch in each exploratory fishery shall be regulated as in Conservation Measure 33-03 [F11/XXI].

6. The total number and weight of Dissostichus eleginoides and Dissostichus mawsoni discarded, including those with the “jellymeat” condition, shall be reported.

7. Each vessel participating in the exploratory fisheries for Dissostichus spp. during the 2002/03 season shall have one scientific observer appointed in accordance with the CCAMLR Scheme of International Scientific Observation, and where possible one additional scientific observer, on board throughout all fishing activities within the fishing season.

8. The Data Collection Plan (Annex 41-01/A [F10/A]) and Research Plan (Annex 41-01/B [F10/B]) shall be implemented. Data collected pursuant to the Data Collection and Research Plans for the period up to 31 August 2003 shall be reported to CCAMLR by 30 September 2003 so that the data will be available to the meeting of the Working Group on Fish Stock Assessment (WG-FSA) in 2003. Such data taken after 31 August shall be reported to CCAMLR not later than three months after the closure of the fishery, but, where possible, submitted in time for the consideration of WG-FSA.

9. Members who choose not to participate in the fishery prior to the commencement of the fishery shall inform the Secretariat of changes in their plans no later than one month before the start of the fishery. If, for whatever reason, Members are unable to participate in the fishery, they shall inform the Secretariat no later than one week after finding that they cannot participate. The Secretariat will inform all Contracting Parties immediately after such notification is received.

¹ Except for waters adjacent to the Kerguelen and Crozet Islands.

² Except for waters adjacent to the Prince Edward Islands.

³ A fine-scale rectangle is defined as an area of 0.5° latitude by 1° longitude with respect to the northwest corner of the statistical subarea or division. The identification of each rectangle is by the latitude of its northernmost boundary and the longitude of the boundary closest to 0°.

Annex 41-01/A [F10/A]

Data Collection Plan for Exploratory Fisheries

1. All vessels will comply with the Five-day Catch and Effort Reporting System (Conservation Measure 23-01 [51/XIX]) and Monthly Fine-scale Catch, Effort and Biological Data Reporting Systems (Conservation Measures 23-04 and 23-05 [122/XIX and 121/XIX]).

2. All data required by the CCAMLR Scientific Observers Manual for finfish fisheries will be collected. These include:

(i) Position, date and depth at the start and end of every haul;

(ii) Haul-by-haul catch and catch per effort by species;

(iii) Haul-by-haul length frequency of common species;

(iv) Sex and gonad state of common species;

(v) Diet and stomach fullness;

(vi) Scales and/or otoliths for age determination;

(vii) Number and mass by species of by-catch of fish and other organisms; and

(viii) Observation on occurrence and incidental mortality of seabirds and mammals in relation to fishing operations.

3. Data specific to longline fisheries will be collected. These include:

(i) Position and sea depth at each end of every line in a haul;

(ii) Setting, soak, and hauling times;

(iii) Number and species of fish lost at surface;

(iv) Number of hooks set;

(v) Bait type;

(vi) Baiting success (%);

(vii) Hook type; and

(viii) Sea and cloud conditions and phase of the moon at the time of setting the lines.

Annex 41-01/B [ F10/B]

Research Plan for Exploratory Fisheries

1. Activities under this research plan shall not be exempted from any conservation measure in force.

2. This plan applies to all small-scale research units (SSRUs) as defined in Table 1.

3. Any vessel undertaking prospecting or commercial fishing in any SSRU must undertake the following research activities:

(i) On first entry into a SSRU, the first 10 hauls, designated “first series”, whether by trawl or longline, should be designated “research hauls” and must satisfy the criteria set out in paragraph 4.

(ii) The next 10 hauls, or 10 tonnes of catch for longlining, whichever trigger level is achieved first, or 10 tonnes of catch for trawling, are designated the “second series”. Hauls in the second series can, at the discretion of the master, be fished as part of normal exploratory fishing. However, provided they satisfy the requirements of paragraph 4, these hauls can also be designated as research hauls.

(iii) On completion of the first and second series of hauls, if the master wishes to continue to fish within the SSRU, the vessel must undertake a “third series” which will result in a total of 20 research hauls being made in all three series. The third series of hauls shall be completed during the same visit as the first and second series in a SSRU.

(iv) On completion of 20 research hauls the vessel may continue to fish within the SSRU.

(v) When either the catch limit or the end of the fishing season is reached, all fishing within the designated area should cease.

4. To be designated as a research haul:

(i) Each research haul must be separated by not less than 5 n miles from any other research haul, distance to be measured from the geographical mid-point of each research haul;

(ii) Each haul shall comprise: For longlines, at least 3 500 hooks and no more than 10 000 hooks; this may comprise a number of separate lines set in the same location; for trawls, at least 30 minutes effective fishing time as defined in the Draft Manual for Bottom Trawl Surveys in the Convention Area (SC-CAMLR-XI, Annex 5, Appendix H, Attachment E, paragraph 4); and

(iii) Each haul of a longline shall have a soak time of not less than six hours, measured from the time of completion of the setting process to the beginning of the hauling process.

5. All data specified in the Data Collection Plan (Annex 41-01/A [F10/A]) of this conservation measure shall be collected for every research haul; in particular, all fish in a research haul up to 100 fish are to be measured and at least 30 fish sampled for biological studies (paragraphs 2(iv) to 2(vi) of Annex 41-01/A [F10/A]). Where more than 100 fish are caught, a method for randomly subsampling the fish should be applied.

Table 1.—The Coordinates of the Small-Scale Research Units (SSRUs)
Subarea/ Division | SSRU | Grid coordinates: Top left latitude | Grid coordinates: Top left longitude | Grid coordinates: Bottom right latitude | Grid coordinates: Bottom right longitude
48.6 | A | 50°S | 20°W | 60°S | 30°E
48.6 | B | 60°S | 20°W | Coast | 10°W
48.6 | C | 60°S | 10°W | Coast | 0
48.6 | D | 60°S | 0 | Coast | 10°E
48.6 | E | 60°S | 10°E | Coast | 20°E
48.6 | F | 60°S | 20°E | Coast | 30°E
58.4.1 | A | 55°S | 80°E | 64°S | 89°E
58.4.2 | A | 62°S | 30°E | Coast | 40°E
58.4.2 | B | 62°S | 40°E | Coast | 50°E
58.4.2 | C | 62°S | 50°E | Coast | 60°E
58.4.2 | D | 62°S | 60°E | Coast | 70°E
58.4.2 | E | 62°S | 70°E | Coast | 80°E
58.4.3a | A | Whole division |  |  |
58.4.3b | A | Whole division |  |  |
58.4.4 | A | 51°S | 40°E | 54°S | 42°E
58.4.4 | B | 51°S | 42°E | 54°S | 46°E
58.4.4 | C | 51°S | 46°E | 54°S | 50°E
58.4.4 | D | Areas outside SSRUs A, B, C |  |  |
58.6 | A | 45°S | 40°E | 48°S | 44°E
58.6 | B | 45°S | 44°E | 48°S | 48°E
58.6 | C | 45°S | 48°E | 48°S | 51°E
58.6 | D | 45°S | 51°E | 48°S | 54°E
58.7 | A | 45°S | 37°E | 48°S | 40°E
88.1 | A | 60°S | 150°E | 65°S | 170°W
88.1 | B | 65°S | 150°E | 72°S | 180°
88.1 | C | 65°S | 180° | 72°S | 170°W
88.1 | D | 72°S | 160°E | 84°S | 180°
88.1 | E | 72°S | 180° | 84.5°S | 170°W
88.2 | A | 60°S | 170°W | Coast | 160°W
88.2 | B | 60°S | 160°W | Coast | 150°W
88.2 | C | 60°S | 150°W | Coast | 140°W
88.2 | D | 60°S | 140°W | Coast | 130°W
88.2 | E | 60°S | 130°W | Coast | 120°W
88.2 | F | 60°S | 120°W | Coast | 110°W
88.2 | G | 60°S | 110°W | Coast | 105°W

Conservation Measure 41-02 (2002) [F05/XXI]

Limits on the Fishery for Dissostichus Eleginoides in Statistical Subarea 48.3 in the 2002/03 Season

The Commission hereby adopts the following conservation measure in accordance with Conservation Measure 31-01 [7/V]:

Access

1. The fishery for Dissostichus eleginoides in Statistical Subarea 48.3 shall be conducted by vessels using longlines and pots only.

Catch Limit

2. The total catch of Dissostichus eleginoides in Statistical Subarea 48.3 in the 2002/03 season shall be limited to 7810 tonnes.

Season

3. For the purpose of the longline fishery for Dissostichus eleginoides in Statistical Subarea 48.3, the 2002/03 season is defined as the period from 1 May to 31 August 2003, or until the catch limit is reached, whichever is sooner. For the purpose of the pot fishery for Dissostichus eleginoides in Statistical Subarea 48.3, the 2002/03 season is defined as the period from 1 December 2002 to 30 November 2003, or until the catch limit is reached, whichever is sooner.

By-Catch

4. The by-catch of crab shall be counted against the catch limit in the crab fishery in Statistical Subarea 48.3.

5. The by-catch of finfish in the fishery for Dissostichus eleginoides in Statistical Subarea 48.3 in the 2002/03 season shall not exceed 390 tonnes for skates and rays and 390 tonnes for Macrourus spp. For the purpose of these by-catch limits, skates and rays shall be counted as a single species.

6. If the by-catch of any one species is equal to or greater than 1 tonne in any one haul or set, then the fishing vessel shall move to another location at least 5 n miles ¹ distant. The fishing vessel shall not return to any point within 5 n miles of the location where the by-catch exceeded 1 tonne for a period of at least five days.² The location where the by-catch exceeded 1 tonne is defined as the path followed by the fishing vessel from the point at which the fishing gear was first deployed from the fishing vessel to the point at which the fishing gear was retrieved by the fishing vessel.

Mitigation

7. The operation of this fishery shall be carried out in accordance with Conservation Measure 25-02 [29/XXI] so as to minimise the incidental mortality of seabirds in the course of fishing.

Observers

8. Each vessel participating in this fishery shall have at least one scientific observer appointed in accordance with the CCAMLR Scheme of International Scientific Observation, and where possible one additional scientific observer, on board throughout all fishing activities within the fishing period.

Data: Catch/Effort

9. For the purpose of implementing this conservation measure in the 2002/03 season, the following shall apply:

(i) the Five-day Catch and Effort Reporting System set out in Conservation Measure 23-01 [51/XIX]; and

(ii) the Monthly Fine-scale Catch and Effort Reporting System set out in Conservation Measure 23-04 [122/XIX]. Fine-scale data shall be submitted on a haul-by-haul basis.

10. For the purpose of Conservation Measures 23-01 and 23-04 [51/XIX and 122/XIX], the target species is Dissostichus eleginoides and by-catch species are defined as any species other than Dissostichus eleginoides.

11. The total number and weight of Dissostichus eleginoides discarded, including those with the “jellymeat” condition, shall be reported. These fish will count towards the total allowable catch.

Data: Biological

12. Fine-scale biological data, as required under Conservation Measure 23-05 [121/XIX], shall be collected and recorded. Such data shall be reported in accordance with the Scheme of International Scientific Observation.

¹ This provision concerning the minimum distance separating fishing locations is adopted pending the adoption of a more appropriate definition of a fishing location by the Commission.

² The specified period is adopted in accordance with the reporting period specified in Conservation Measure 23-01 [51/XIX], pending the adoption of a more appropriate period by the Commission.

Conservation Measure 41-04 (2002) [F12/XXI]

Limits on the Exploratory Fishery for Dissostichus Spp. in Statistical Subarea 48.6 in the 2002/03 Season

The Commission hereby adopts the following conservation measure in accordance with Conservation Measure 21-02 [65/XXI]:

Access

1. Fishing for Dissostichus spp. in Statistical Subarea 48.6 shall be limited to the exploratory longline fishery by Japan, New Zealand and South Africa. The fishery shall be conducted by Japanese, New Zealand and South African flagged vessels using longlines only. No more than one vessel per country shall fish at any one time.

Catch Limit

2. The total catch of Dissostichus spp. in Statistical Subarea 48.6 in the 2002/03 season shall not exceed a precautionary catch limit of 455 tonnes north of 60°S and 455 tonnes south of 60°S.

Season

3. For the purpose of the exploratory longline fishery for Dissostichus spp. in Statistical Subarea 48.6, the 2002/03 season is defined as the period from 1 March to 31 August 2003 north of 60°S and the period from 15 February to 15 October 2003 south of 60°S. In the event that either limit is reached, the relevant fishery shall be closed.

By-Catch

4. The by-catch in this fishery shall be regulated as set out in Conservation Measure 33-03 [F11/XXI].

Mitigation

5. The exploratory longline fishery for Dissostichus spp. in Statistical Subarea 48.6 shall be carried out in accordance with the provisions of Conservation Measure 25-02 [29/XXI], except paragraph 3 (night setting) shall not apply south of 60°S. South of 60°S, prior to licensing, each vessel shall demonstrate its capacity to comply with experimental line-weighting trials as approved by the Scientific Committee and described in Conservation Measure 24-02 [216/XXI] and such data shall be reported to the Secretariat immediately.

6. South of 60°S, longlines may be set during daylight hours only if the vessels are demonstrating a consistent minimum line sink rate of 0.3 m/s. Any vessel catching a total of three (3) seabirds shall immediately revert to night setting in accordance with Conservation Measure 25-02 [29/XXI].

7. There shall be no offal discharge in this fishery.

Observers

8. Each vessel participating in the fishery shall have at least two scientific observers, one of whom shall be an observer appointed in accordance with the CCAMLR Scheme of International Scientific Observation, on board throughout all fishing activities within the fishing period.

Data: Catch/Effort

9. For the purpose of implementing this conservation measure in the 2002/03 season, the following shall apply:

(i) The Five-day Catch and Effort Reporting System set out in Conservation Measure 23-01 [51/XIX]; and

(ii) The Monthly Fine-scale Catch and Effort Reporting System set out in Conservation Measure 23-04 [122/XIX]. Fine-scale data shall be submitted on a haul-by-haul basis.

10. For the purpose of Conservation Measures 23-01 and 23-04 [51/XIX and 122/XIX], the target species is Dissostichus spp. and by-catch species are defined as any species other than Dissostichus spp.

Data: Biological

11. Fine-scale biological data, as required under Conservation Measure 23-05 [121/XIX], shall be collected and recorded. Such data shall be reported in accordance with the Scheme of International Scientific Observation.

Research

12. Each vessel participating in this exploratory fishery shall conduct fishery-based research in accordance with the Research Plan described in Conservation Measure 41-01 [F10/XXI], Annex B.

Conservation Measure 41-05 (2002) [F13/XXI]

Limits on the Exploratory Fishery for Dissostichus spp. in Statistical Division 58.4.2 in the 2002/03 Season

The Commission hereby adopts the following conservation measure in accordance with Conservation Measure 21-02 [65/XXI]:

Access

1. Fishing for Dissostichus spp. in Statistical Division 58.4.2 shall be limited to the exploratory longline fishery by Australia. The fishery shall be conducted by one Australian flagged vessel using longlines only.

Catch Limit

2. The total catch of Dissostichus spp. in Statistical Division 58.4.2 in the 2002/03 season shall not exceed a precautionary catch limit of 500 tonnes, of which no more 100 tonnes shall be taken in any one of the five small-scale research units (SSRUs) bounded by longitudes 30°E to 40°E, 40°E to 50°E, 50°E to 60°E, 60°E to 70°E and 70°E to 80°E.

Season

3. For the purpose of the exploratory longline fishery for Dissostichus spp. in Statistical Division 58.4.2, the 2002/03 season is defined as the period from 1 December 2002 to 30 November 2003.

Fishing Operations

4. The exploratory longline fishery for Dissostichus spp. in Division 58.4.2 shall be carried out in accordance with the provisions of Conservation Measure 41-01 [F10/XXI], except paragraph 7.

In addition, fishing will be prohibited in depths less than 550 m in order to protect benthic communities. As a further protection for benthic habitats, either the eastern or western half (5° of longitude) of each SSRU in which fishing takes place can be defined as “open” at the discretion of the vessel's master. The other half of the SSRU shall remain closed to fishing.

By-Catch

5. The by-catch in this fishery shall be regulated as set out in Conservation Measure 33-03 [F11/XXI].

Mitigation

6. The exploratory longline fishery for Dissostichus spp. in Statistical Division 58.4.2 shall be carried out in accordance with the provisions of Conservation Measure 25-02 [29/XXI], except paragraph 3 (night setting) shall not apply. Prior to licensing, each vessel shall demonstrate its capacity to comply with experimental line-weighting trials as approved by the Scientific Committee and described in Conservation Measure 24-02 [216/XXI] and such data shall be reported to the Secretariat immediately.

7. In Statistical Division 58.4.2, longlines may be set during daylight hours only if the vessel demonstrates a consistent minimum line sink rate of 0.3 m/s in accordance with Conservation Measure 24-02 [216/XXI]. Should a total of three (3) seabirds be caught, the vessel shall immediately revert to night setting in accordance with Conservation Measure 25-02 [29/XXI].

8. There shall be no offal discharge in this fishery.

Observers

9. Each vessel participating in the fishery shall have at least two scientific observers, one of whom shall be an observer appointed in accordance with the CCAMLR Scheme of International Scientific Observation, on board throughout all fishing activities within the fishing period.

Research

10. Each vessel participating in this exploratory fishery shall conduct fishery-based research in accordance with the research plan described in Conservation Measure 41-01 [F10/XXI], Annex B.

Data: Catch/Effort

11. For the purpose of implementing this conservation measure in the 2002/03 season, the following shall apply:

(i) The Five-day Catch and Effort Reporting System set out in Conservation Measure 23-01 [51/XIX]; and

(ii) The Monthly Fine-scale Catch and Effort Reporting System set out in Conservation Measure 23-04 [122/XIX]. Fine-scale data shall be submitted on a haul-by-haul basis.

12. For the purpose of Conservation Measures 23-01 and 23-04 [51/XIX and 122/XIX], the target species is Dissostichus spp. and by-catch species are defined as any species other than Dissostichus spp.

Data: Biological

13. Fine-scale biological data, as required under Conservation Measure 23-05 [121/XIX], shall be collected and recorded. Such data shall be reported in accordance with the Scheme of International Scientific Observation.

Conservation Measure 41-06 (2002) [F14/XXI]

Limits on the Exploratory Fishery for Dissostichus spp. on Elan Bank (Statistical Division 58.4.3a) Outside Areas of National Jurisdiction in the 2002/03 Season

The Commission hereby adopts the following conservation measure in accordance with Conservation Measure 21-02 [65/XXI]

Access

1. Fishing for Dissostichus spp. on Elan Bank (Statistical Division 58.4.3a) outside areas of national jurisdiction shall be limited to the exploratory longline fishery by Australia and Japan. The fishery shall be conducted by Australian and Japanese flagged vessels using longlines only. No more than one vessel per country shall fish at any one time.

Catch Limit

2. The total catch of Dissostichus spp. on Elan Bank (Statistical Division 58.4.3a) outside areas of national jurisdiction in the 2002/03 season shall not exceed a precautionary catch limit of 250 tonnes.

Season

3. For the purpose of the exploratory longline fishery for Dissostichus spp. on Elan Bank (Statistical Division 58.4.3a) outside areas of national jurisdiction, the 2002/03 season is defined as the period from 1 May to 31 August 2003, or until the catch limit is reached, whichever is sooner.

By-Catch

4. The by-catch in this fishery shall be regulated as set out in Conservation Measure 33-03 [F11/XXI].

Mitigation

5. The operation of this fishery shall be carried out in accordance with Conservation Measure 25-02 [29/XXI] so as to minimise the incidental mortality of seabirds in the course of fishing.

Observers

6. Each vessel participating in this fishery shall have at least one scientific observer appointed in accordance with the CCAMLR Scheme of International Scientific Observation, and where possible one additional scientific observer, on board throughout all fishing activities within the fishing period.

Data: Catch/Effort

7. For the purpose of implementing this conservation measure in the 2002/03 season, the following shall apply:

(i) The Five-day Catch and Effort Reporting System set out in Conservation Measure 23-01 [51/XIX]; and

(ii) The Monthly Fine-scale Catch and Effort Reporting System set out in Conservation Measure 23-04 [122/XIX]. Fine-scale data shall be submitted on a haul-by-haul basis.

8. For the purpose of Conservation Measures 23-01 and 23-04 [51/XIX] and 122/XIX], the target species is Dissostichus spp. and by-catch species are defined as any species other than Dissostichus spp.

Data: Biological

9. Fine-scale biological data, as required under Conservation Measure 23-05 [121/XIX], shall be collected and recorded. Such data shall be reported in accordance with the Scheme of International Scientific Observation.

Research

10. Each vessel participating in this exploratory fishery shall conduct fishery-based research in accordance with the research plan described in Conservation Measure 41-01 [F10/XXI], Annex B.

Conservation Measure 41-07 (2002) [F15/XXI]

Limits on the Exploratory Fishery for Dissostichus Spp. on BANZARE Bank (Statistical Division 58.4.3b) Outside Areas of National Jurisdiction in the 2002/03 Season

The Commission hereby adopts the following conservation measure in accordance with Conservation Measure 21-02 [65/XXI]:

Access

1. Fishing for Dissostichus spp. on BANZARE Bank (Statistical Division 58.4.3b) outside areas of national jurisdiction shall be limited to the exploratory longline fishery by Australia and Japan. The fishery shall be conducted by Australian and Japanese flagged vessels using longlines only. No more than one vessel per country shall fish at any one time.

Catch Limit

2. The total catch of Dissostichus spp. on BANZARE Bank (Statistical Division 58.4.3b) outside areas of national jurisdiction in the 2002/03 season shall not exceed a precautionary catch limit of 300 tonnes.

Season

3. For the purpose of the exploratory longline fishery for Dissostichus spp. on BANZARE Bank (Statistical Division 58.4.3b) outside areas of national jurisdiction, the 2002/03 season is defined as the period from 1 May to 31 August 2003, or until the catch limit is reached, whichever is sooner.

By-Catch

4. The by-catch in this fishery shall be regulated as set out in Conservation Measure 33-03 [F11/XXI].

Mitigation

5. The operation of this fishery shall be carried out in accordance with Conservation Measure 25-02 [29/XXI] so as to minimise the incidental mortality of seabirds in the course of fishing.

Observers

6. Each vessel participating in this fishery shall have at least one scientific observer appointed in accordance with the CCAMLR Scheme of International Scientific Observation, and where possible one additional scientific observer, on board throughout all fishing activities within the fishing period.

Data: Catch/Effort

7. For the purpose of implementing this conservation measure in the 2002/03 season, the following shall apply:

(i) The Five-day Catch and Effort Reporting System set out in Conservation Measure 23-01 [51/XIX]; and

(ii) The Monthly Fine-scale Catch and Effort Reporting System set out in Conservation Measure 23-04 [122/XIX]. Fine-scale data shall be submitted on a haul-by-haul basis.

8. For the purpose of Conservation Measures 23-01 and 23-04 [51/XIX and 122/XIX], the target species is Dissostichus spp. and by-catch species are defined as any species other than Dissostichus spp.

Data: Biological

9. Fine-scale biological data, as required under Conservation Measure 23-05 [121/XIX], shall be collected and recorded. Such data shall be reported in accordance with the Scheme of International Scientific Observation.

Research

10. Each vessel participating in this exploratory fishery shall conduct fishery-based research in accordance with the research plan described in Conservation Measure 41-01 [F10/XXI], Annex B.

Conservation Measure 41-08 (2002) [F06/XXI]

Limits on the Fishery for Dissostichus Eleginoides in Statistical Division 58.5.2 in the 2002/03 Season

Access

1. The fishery for Dissostichus eleginoides in Statistical Division 58.5.2 shall be conducted by vessels using trawls or longlines only.

Catch Limit

2. The total catch of Dissostichus eleginoides in Statistical Division 58.5.2 in the 2002/03 season shall be limited to 2 879 tonnes west of 79°20′E.

Season

3. For the purpose of the trawl fishery for Dissostichus eleginoides in Statistical Division 58.5.2, the 2002/03 season is defined as the period from 1 December 2002 to 30 November 2003, or until the catch limit is reached, whichever is sooner. For the purpose of the longline fishery for Dissostichus eleginoides in Statistical Division 58.5.2, the 2002/03 season is defined as the period from 1 May to 31 August 2003, or until the catch limit is reached, whichever is sooner.

By-Catch

4. Fishing shall cease if the by-catch of any species reaches its by-catch limit as set out in Conservation Measure 33-02 [F04/XXI].

Mitigation

5. The operation of this fishery shall be carried out in accordance with Conservation Measures 25-02 and 25-03 [29/XXI and 173/XVIII] so as to minimise the incidental mortality of seabirds in the course of fishing.

Observers

6. Each vessel participating in this fishery shall have at least one scientific observer, and may include one appointed in accordance with the CCAMLR Scheme of International Scientific Observation, on board throughout all fishing activities within the fishing period.

Data: Catch/Effort

7. For the purpose of implementing this conservation measure in the 2002/03 season, the following shall apply:

(i) The Ten-day Catch and Effort Reporting System set out in Annex 41-08/A [F06/A]; and

(ii) The Monthly Fine-scale Catch and Effort Reporting System set out in Annex 41-08/A [F06/A]. Fine-scale data shall be submitted on a haul-by-haul basis.

8. For the purpose of Annex 41-08/A [F06/A], the target species is Dissostichus eleginoides and by-catch species are defined as any species other than Dissostichus eleginoides.

9. The total number and weight of Dissostichus eleginoides discarded, including those with the 'jellymeat' condition, shall be reported. These fish will count towards the total allowable catch.

Data: Biological

10. Fine-scale biological data, as required under Annex 41-08/A [F06/A], shall be collected and recorded. Such data shall be reported in accordance with the Scheme of International Scientific Observation.

Annex 41-08/A [F06/A]

Data Reporting System

A ten-day catch and effort reporting system shall be implemented:

(i) For the purpose of implementing this system, the calendar month shall be divided into three reporting periods, viz: day 1 to day 10, day 11 to day 20 and day 21 to the last day of the month. The reporting periods are hereafter referred to as periods A, B and C;

(ii) At the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) A report must be submitted by every Contracting Party taking part in the fishery for each reporting period for the duration of the fishery, even if no catches are taken;

(iv) The catch of Dissostichus eleginoides and of all by-catch species must be reported;

(v) Such reports shall specify the month and reporting period (A, B and C) to which each report refers;

(vi) Immediately after the deadline has passed for receipt of the reports for each period, the Executive Secretary shall notify all Contracting Parties engaged in fishing activities in the division of the total catch taken during the reporting period and the total aggregate catch for the season to date; and

(vii) At the end of every three reporting periods, the Executive Secretary shall inform all Contracting Parties of the total catch taken during the three most recent reporting periods and the total aggregate catch for the season to date.

A fine-scale catch, effort and biological data reporting system shall be implemented:

(i) The scientific observer(s) aboard each vessel shall collect the data required to complete the CCAMLR fine-scale catch and effort data form C1, latest version. These data shall be submitted to the CCAMLR Secretariat not later than one month after the vessel returns to port;

(ii) The catch of Dissostichus eleginoides and of all by-catch species must be reported;

(iii) The numbers of seabirds and marine mammals of each species caught and released or killed must be reported;

(iv) The scientific observer(s) aboard each vessel shall collect data on the length composition from representative samples of Dissostichus eleginoides and by-catch species:

(a) Length measurements shall be to the nearest centimetre below; and

(b) Representative samples of length composition shall be taken from each fine-scale grid rectangle (0.5° latitude by 1° longitude) fished in each calendar month; and

(v) The above data shall be submitted to the CCAMLR Secretariat not later than one month after the vessel returns to port.

Conservation Measure 41-09 (2002) [F18/XXI]

Limits on the Exploratory Fishery for Dissostichus spp. in Statistical Subarea 88.1 in the 2002/03 Season

The Commission hereby adopts the following conservation measure in accordance with Conservation Measure 21-02 [65/XXI]:

Access

1. Fishing for Dissostichus spp. in Statistical Subarea 88.1 shall be limited to the exploratory longline fishery by Japan, New Zealand, Russia, South Africa and Spain. The fishery shall be conducted by a maximum in the season of two (2) Japanese, six (6) New Zealand, two (2) Russian, two (2) South African and one (1) Spanish flagged vessels ¹ using longlines only.

Catch Limit

2. The total catch of Dissostichus spp. in Statistical Subarea 88.1 in the 2002/03 season shall not exceed a precautionary catch limit of 256 tonnes north of 65°S and 3 504 tonnes south of 65°S.

3. In order to ensure an adequate spread of fishing effort south of 65°S, no more than 876 tonnes of Dissostichus spp. shall be taken in each of the four small-scale research units (SSRUs) identified for Statistical Subarea 88.1 south of 65°S, as defined in Conservation Measure 41-01 [F10/XXI], Annex B.

Season

4. For the purpose of the exploratory longline fishery for Dissostichus spp. in Statistical Subarea 88.1, the 2002/03 season is defined as the period from 1 December 2002 to 31 August 2003.

Fishing Operations

5. The exploratory longline fishery for Dissostichus spp. in Statistical Subarea 88.1 shall be carried out in accordance with the provisions of Conservation Measure 41-01 [F10/XXI], except paragraph 7.

By-Catch

6. The by-catch in this fishery shall be regulated as set out in Conservation Measure 33-03 [F11/XXI].

Mitigation

7. The exploratory longline fishery for Dissostichus spp. in Statistical Subarea 88.1 shall be carried out in accordance with the provisions of Conservation Measure 25-02 [29/XXI], except paragraph 3 (night setting) shall not apply. Prior to licensing, each vessel shall demonstrate its capacity to comply with experimental line-weighting trials as approved by the Scientific Committee and described in Conservation Measure 24-02 [216/XXI] and such data shall be reported to the Secretariat immediately.

8. In Statistical Subarea 88.1, longlines may be set during daylight hours only if the vessels are demonstrating a consistent minimum line sink rate of 0.3 m/s in accordance with Conservation Measure 24-02 [216/XXI]. Any vessel catching a total of three (3) seabirds shall immediately revert to night setting in accordance with Conservation Measure 25-02 [29/XXI].

9. There shall be no offal discharge in this fishery.

Observers

10. Each vessel participating in the fishery shall have at least two scientific observers, one of whom shall be an observer appointed in accordance with the CCAMLR Scheme of International Scientific Observation, on board throughout all fishing activities within the fishing period.

VMS

11. Each vessel participating in this exploratory longline fishery shall be required to operate a VMS at all times, in accordance with Conservation Measure 10-04 [148/XXI].

CDS

12. Each vessel participating in this exploratory longline fishery shall be required to participate in the Catch Documentation Scheme for Dissostichus spp., in accordance with Conservation Measure 10-05 170/XXI].

Research

13. Each vessel participating in this exploratory fishery shall conduct fishery-based research in accordance with the research plan described in Conservation Measure 41-01 [F10/XXI], Annex B.

Data: Catch/Effort

14. For the purpose of implementing this conservation measure in the 2002/03 season, the following shall apply:

(i) The Five-day Catch and Effort Reporting System set out in Conservation Measure 23-01 [51/XIX]; and

(ii) The Monthly Fine-scale Catch and Effort Reporting System set out in Conservation Measure 23-04 [122/XIX]. Fine-scale data shall be submitted on a haul-by-haul basis.

15. For the purpose of Conservation Measures 23-01 and 23-04 [51/XIX and 122/XIX], the target species is Dissostichus spp. and by-catch species are defined as any species other than Dissostichus spp.

Data: Biological

16. Fine-scale biological data, as required under Conservation Measure 23-05 [121/XIX], shall be collected and recorded. Such data shall be reported in accordance with the Scheme of International Scientific Observation.

Discharge

17. All vessels participating in this exploratory fishery shall be prohibited from discharging:

(i) Oil or fuel products or oily residues into the sea, except as permitted in Annex I of MARPOL 73/78;

(ii) Garbage;

(iii) Food wastes not capable of passing through a screen with openings no greater than 25 mm;

(iv) Poultry or parts (including egg shells); or

(v) Sewage within 12 n miles of land or ice shelves, or sewage while the ship is travelling at a speed of less than 4 knots.

Additional Elements

18. No live poultry or other living birds shall be brought into Statistical Subarea 88.1 and any dressed poultry not consumed shall be removed from Statistical Subarea 88.1.

19. Fishing for Dissostichus spp. in Statistical Subarea 88.1 shall be prohibited within 10 n miles of the coast of the Balleny Islands.

¹ As notified to the Secretariat in accordance with Conservation Measure 21-02 [65/XXI] paragraph 2(iv).

Conservation Measure 41-10 (2002) [F19/XXI]

Limits on the Exploratory Fishery for Dissostichus Spp. in Statistical Subarea 88.2 in the 2002/03 Season

The Commission hereby adopts the following conservation measure in accordance with Conservation Measure 21-02 [65/XXI]:

Access

1. Fishing for Dissostichus spp. in Statistical Subarea 88.2 shall be limited to the exploratory longline fishery by Japan, New Zealand and Russia. The fishery shall be conducted by a maximum in the season of two (2) Japanese, five (5) New Zealand and two (2) Russian flagged vessels ¹ using longlines only.

Catch Limit

2. The total catch of Dissostichus spp. in Statistical Subarea 88.2 south of 65°S in the 2002/03 season shall not exceed a precautionary catch limit of 375 tonnes.

Season

3. For the purpose of the exploratory longline fishery for Dissostichus spp. in Statistical Subarea 88.2, the 2002/03 season is defined as the period from 1 December 2002 to 31 August 2003.

4. The exploratory longline fishery for Dissostichus spp. in Statistical Subarea 88.2 shall be carried out in accordance with the provisions of Conservation Measure 41-01 [F10/XXI], except paragraph 7.

By-Catch

5. The by-catch in this fishery shall be regulated as set out in Conservation Measure 33-03 [F11/XXI].

Mitigation

6. The exploratory longline fishery for Dissostichus spp. in Statistical Subarea 88.2 shall be carried out in accordance with the provisions of Conservation Measure 25-02 [29/XXI], except paragraph 3 (night setting) shall not apply. Prior to licensing, each vessel shall demonstrate its capacity to comply with experimental line-weighting trials as approved by the Scientific Committee and described in Conservation Measure 24-02 [216/XXI], and such data shall be reported to the Secretariat immediately.

7. In Statistical Subarea 88.2, longlines may be set during daylight hours only if the vessels are demonstrating a consistent minimum line sink rate of 0.3 m/s in accordance with Conservation Measure 24-02 [216/XXI]. Any vessel catching a total of three (3) seabirds shall immediately revert to night setting in accordance with Conservation Measure 25-02 [29/XXI].

8. There shall be no offal discharge in this fishery.

Observers

9. Each vessel participating in the fishery shall have at least two scientific observers, one of whom shall be an observer appointed in accordance with the CCAMLR Scheme of International Scientific Observation, on board throughout all fishing activities within the fishing period.

VMS

10. Each vessel participating in this exploratory longline fishery shall be required to operate a VMS at all times, in accordance with Conservation Measure 10-04 [148/XXI].

CDS

11. Each vessel participating in this exploratory longline fishery shall be required to participate in the Catch Documentation Scheme for Dissostichus spp., in accordance with Conservation Measure 10-05 170/XXI].

Research

12. Each vessel participating in this exploratory fishery shall conduct fishery-based research in accordance with the research plan described in Conservation Measure 41-01 [F10/XXI], Annex B.

Data: Catch/Effort

13. For the purpose of implementing this conservation measure in the 2002/03 season, the following shall apply:

(i) The Five-day Catch and Effort Reporting System set out in Conservation Measure 23-01 [51/XIX]; and

(ii) The Monthly Fine-scale Catch and Effort Reporting System set out in Conservation Measure 23-04 [122/XIX]. Fine-scale data shall be submitted on a haul-by-haul basis.

14. For the purpose of Conservation Measures 23-01 and 23-04 [51/XIX and 122/XIX], the target species is Dissostichus spp. and by-catch species are defined as any species other than Dissostichus spp.

Data: Biological

15. Fine-scale biological data, as required under Conservation Measure 23-05 [121/XIX], shall be collected and recorded. Such data shall be reported in accordance with the Scheme of International Scientific Observation.

Discharge

16. All vessels participating in this exploratory fishery shall be prohibited from discharging:

(i) Oil or fuel products or oily residues into the sea, except as permitted in Annex I of MARPOL 73/78;

(ii) Garbage;

(iii) Food wastes not capable of passing through a screen with openings no greater than 25 mm;

(iv) Poultry or parts (including egg shells); or

(v) Sewage within 12 n miles of land or ice shelves, or sewage while the ship is travelling at a speed of less than 4 knots.

Additional Elements

17. No live poultry or other living birds shall be brought into Statistical Subarea 88.2 and any dressed poultry not consumed shall be removed from Statistical Subarea 88.2.

¹ As notified to the Secretariat in accordance with Conservation Measure 21-02 [65/XXI] paragraph 2(iv).

Conservation Measure 42-01 (2002) [F02/XXI]

Limits on the Fishery for Champsocephalus Gunnari in Statistical Subarea 48.3 in the 2002/03 Season

The Commission hereby adopts the following conservation measure in accordance with Conservation Measure 31-01 [7/V]:

Access

1. The fishery for Champsocephalus gunnari in Statistical Subarea 48.3 shall be conducted by vessels using trawls only. The use of bottom trawls in the directed fishery for Champsocephalus gunnari in Statistical Subarea 48.3 is prohibited.

2. Fishing for Champsocephalus gunnari shall be prohibited within 12 n miles of the coast of South Georgia during the period 1 March to 31 May (spawning period).

Catch Limit

3. The total catch of Champsocephalus gunnari in Statistical Subarea 48.3 in the 2002/03 season shall be limited to 2 181 tonnes. The total catch of Champsocephalus gunnari taken in the period 1 March to 31 May shall be limited to 545 tonnes.

4. Where any haul contains more than 100 kg of Champsocephalus gunnari, and more than 10% of the Champsocephalus gunnari by number are smaller than 240 mm total length, the fishing vessel shall move to another fishing location at least 5 n miles distant.¹ The fishing vessel shall not return to any point within 5 n miles of the location where the catch of small Champsocephalus gunnari exceeded 10%, for a period of at least five days.² The location where the catch of small Champsocephalus gunnari exceeded 10% is defined as the path followed by the fishing vessel from the point at which the fishing gear was first deployed from the fishing vessel to the point at which the fishing gear was retrieved by the fishing vessel.

Season

5. For the purpose of the trawl fishery for Champsocephalus gunnari in Statistical Subarea 48.3, the 2002/03 season is defined as the period from 1 December 2002 to 30 November 2003, or until the catch limit is reached, whichever is sooner.

By-Catch

6. The by-catch in this fishery shall be regulated as set out in Conservation Measure 33-01 [95/XIV]. If, in the course of the directed fishery for Champsocephalus gunnari, the by-catch in any one haul of any of the species named in Conservation Measure 33-01 [95/XIV].

• Is greater than 100 kg and exceeds 5% of the total catch of all fish by weight, or

• Is equal to or greater than 2 tonnes, then

the fishing vessel shall move to another location at least 5 n miles distant.¹ The fishing vessel shall not return to any point within 5 n miles of the location where the by-catch of species named in Conservation Measure 33-01 [95/XIV] exceeded 5% for a period of at least five days.² The location where the by-catch exceeded 5% is defined as the path followed by the fishing vessel from the point at which the fishing gear was first deployed from the fishing vessel to the point at which the fishing gear was retrieved by the fishing vessel.

Mitigation

7. The operation of this fishery shall be carried out in accordance with Conservation Measure 25-03 [173/XVIII] so as to minimise the incidental mortality of seabirds in the course of the fishery.

8. Should any vessel catch a total of 20 seabirds, it shall cease fishing and shall be excluded from further participation in the fishery in the 2002/03 season.

Observers

9. Each vessel participating in this fishery shall have at least one scientific observer appointed in accordance with the CCAMLR Scheme of International Scientific Observation, and where possible one additional scientific observer, on board throughout all fishing activities within the fishing period.

Data: Catch/Effort

10. For the purpose of implementing this conservation measure in the 2002/03 season, the following shall apply:

(i) The Five-day Catch and Effort Reporting System set out in Conservation Measure 23-01 [51/XIX]; and

(ii) The Monthly Fine-scale Catch and Effort Reporting System set out in Conservation Measure 23-04 [122/XIX]. Fine-scale data shall be submitted on a haul-by-haul basis.

11. For the purpose of Conservation Measures 23-01 and 23-04 [51/XIX and 122/XIX], the target species is Champsocephalus gunnari and by-catch species are defined as any species other than Champsocephalus gunnari.

Data: Biological

12. Fine-scale biological data, as required under Conservation Measure 23-05 [121/XIX], shall be collected and recorded. Such data shall be reported in accordance with the Scheme of International Scientific Observation.

Research

13. Each vessel operating in this fishery during the period 1 March to 31 May 2003 shall conduct twenty (20) research trawls in the manner described in Annex 42-01/A [F02/A].

¹ This provision concerning the minimum distance separating fishing locations is adopted pending the adoption of a more appropriate definition of a fishing location by the Commission.

² The specified period is adopted in accordance with the reporting period specified in Conservation Measure 23-01 [51/XIX], pending the adoption of a more appropriate period by the Commission.

Annex 42-01/A [F02/A]

Research Trawls During Spawning Season

1. All fishing vessels taking part in the fishery for Champsocephalus gunnari in Statistical Subarea 48.3 between 1 March and 31 May shall be required to conduct a minimum of 20 research hauls, to be completed during that period. Twelve research hauls shall be carried out in the Shag Rocks-Black Rocks area. These shall be distributed between four sectors: four each in the NW and SE sectors, and two each in the NE and SW sectors. A further eight research hauls shall be conducted on the northwestern shelf of South Georgia over water less than 300 m deep.

2. Each research haul must be at least 5 n miles distant from all others. The spacing of stations is intended to be such that both areas are adequately covered in order to provide information on the length, sex, maturity and weight composition of Champsocephalus gunnari.

3. If concentrations of fish are located en route to South Georgia, they should be fished in addition to the research hauls.

4. The duration of research hauls must be of a minimum of 30 minutes with the net at fishing depth. During the day, the net must be fished close to the bottom.

5. The catch of all research hauls shall be sampled by the international scientific observer on board. Samples should aim to comprise at least 100 fish, sampled using standard random sampling techniques. All fish in the sample should be at least examined for length, sex and maturity determination, and where possible weight. More fish should be examined if the catch is large and time permits.

Conservation Measure 42-02 (2002) [F03/XXI]

Limits on the Fishery for Champsocephalus Gunnari in Statistical Division 58.5.2 in the 2002/03 Season

Access

1. The fishery for Champsocephalus gunnari in Statistical Division 58.5.2 shall be conducted by vessels using trawls only.

2. For the purpose of this fishery for Champsocephalus gunnari, the area open to the fishery is defined as that portion of Statistical Division 58.5.2 that lies within the area enclosed by a line:

(i) Starting at the point where the meridian of longitude 72°15′ E intersects the Australia-France Maritime Delimitation Agreement Boundary then south along the meridian to its intersection with the parallel of latitude 53°25′ S;

(ii) Then east along that parallel to its intersection with the meridian of longitude 74° E;

(iii) Then northeasterly along the geodesic to the intersection of the parallel of latitude 52°40′ S and the meridian of longitude 76° E;

(iv) Then north along the meridian to its intersection with the parallel of latitude 52° S;

(v) Then northwesterly along the geodesic to the intersection of the parallel of latitude 51° S with the meridian of longitude 74°30′ E; and

(vi) Then southwesterly along the geodesic to the point of commencement.

3. Areas in Statistical Division 58.5.2 outside that defined above shall be closed to directed fishing for Champsocephalus gunnari.

Catch Limit

4. The total catch of Champsocephalus gunnari in Statistical Division 58.5.2 in the 2002/03 season shall be limited to 2 980 tonnes.

5. Where any haul contains more than 100 kg of Champsocephalus gunnari, and more than 10% of the Champsocephalus gunnari by number are smaller than 240 mm total length, the fishing vessel shall move to another fishing location at least 5 n miles distant.¹ The fishing vessel shall not return to any point within 5 n miles of the location where the catch of small Champsocephalus gunnari exceeded 10% for a period of at least five days.² The location where the catch of small Champsocephalus gunnari exceeded 10% is defined as the path followed by the fishing vessel from the point at which the fishing gear was first deployed from the fishing vessel to the point at which the fishing gear was retrieved by the fishing vessel.

Season

6. For the purpose of the trawl fishery for Champsocephalus gunnari in Statistical Division 58.5.2, the 2002/03 season is defined as the period from 1 December 2002 to 30 November 2003, or until the catch limit is reached, whichever is sooner.

By-Catch

7. Fishing shall cease if the by-catch of any species reaches its by-catch limit as set out in Conservation Measure 33-02 [F04/XXI].

Mitigation

8. The operation of this fishery shall be carried out in accordance with Conservation Measure 25-03 [173/XVIII] so as to minimise the incidental mortality of seabirds in the course of fishing.

Observers

9. Each vessel participating in this fishery shall have at least one scientific observer, and may include one appointed in accordance with the CCAMLR Scheme of International Scientific Observation, on board throughout all fishing activities within the fishing period.

Data: Catch/Effort

10. For the purpose of implementing this conservation measure in the 2002/03 season, the following shall apply:

(i) The Ten-day Catch and Effort Reporting System set out in Annex 42-02/B [F03/B]; and

(ii) The Monthly Fine-scale Catch and Effort Reporting System set out in Annex 42-02/B [F03/B]. Fine-scale data shall be submitted on a haul-by-haul basis.

11. For the purpose of Annex 42-02/B [F03/B], the target species is Champsocephalus gunnari and by-catch species are defined as any species other than Champsocephalus gunnari.

Data: Biological

12. Fine-scale biological data, as required under Annex 42-02/B [F03/B], shall be collected and recorded. Such data shall be reported in accordance with the Scheme of International Scientific Observation.

¹ This provision concerning the minimum distance separating fishing locations is adopted pending the adoption of a more appropriate definition of a fishing location by the Commission.

² The specified period is adopted in accordance with the reporting period specified in Conservation Measure 23-01 [51/XIX], pending the adoption of a more appropriate period by the Commission.

Annex 42-02/B [F03/B]

Data Reporting System

A ten-day catch and effort reporting system shall be implemented:

(i) For the purpose of implementing this system, the calendar month shall be divided into three reporting periods, viz: day 1 to day 10, day 11 to day 20 and day 21 to the last day of the month. The reporting periods are hereafter referred to as periods A, B and C;

(ii) At the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) A report must be submitted by every Contracting Party taking part in the fishery for each reporting period for the duration of the fishery, even if no catches are taken;

(iv) the catch of Champsocephalus gunnari and of all by-catch species must be reported;

(v) Such reports shall specify the month and reporting period (A, B and C) to which each report refers;

(vi) Immediately after the deadline has passed for receipt of the reports for each period, the Executive Secretary shall notify all Contracting Parties engaged in fishing activities in the division of the total catch taken during the reporting period and the total aggregate catch for the season to date; and

(vii) At the end of every three reporting periods, the Executive Secretary shall inform all Contracting Parties of the total catch taken during the three most recent reporting periods and the total aggregate catch for the season to date.

A fine-scale catch, effort and biological data reporting system shall be implemented:

(i) The scientific observer(s) aboard each vessel shall collect the data required to complete the CCAMLR fine-scale catch and effort data form C1, latest version. These data shall be submitted to the CCAMLR Secretariat not later than one month after the vessel returns to port;

(ii) The catch of Champsocephalus gunnari and of all by-catch species must be reported;

(iii) The numbers of seabirds and marine mammals of each species caught and released or killed must be reported;

(iv) The scientific observer(s) aboard each vessel shall collect data on the length composition from representative samples of Champsocephalus gunnari and by-catch species:

(a) Length measurements shall be to the nearest centimetre below; and

(b) Representative samples of length composition shall be taken from each fine-scale grid rectangle (0.5° latitude by 1° longitude) fished in each calendar month; and

(v) The above data shall be submitted to the CCAMLR Secretariat not later than one month after the vessel returns to port.

Conservation Measure 43-01 (2002) [F07/XXI]

Precautionary Catch Limit for Electrona Carlsbergi in Statistical Subarea 48.3 in the 2002/03 Season

The Commission hereby adopts the following conservation measure in accordance with Conservation Measure 31-01 [7/V]:

1. For the purposes of this conservation measure the fishing season for Electrona carlsbergi is defined as the period from 1 December 2002 to 30 November 2003.

2. The total catch of Electrona carlsbergi in the 2002/03 season shall be limited to 109 000 tonnes in Statistical Subarea 48.3.

3. In addition, the total catch of Electrona carlsbergi in the 2002/03 season shall be limited to 14 500 tonnes in the Shag Rocks region, defined as the area bounded by 52°30′S, 40°W; 52°30′S, 44°W; 54°30′S, 40°W and 54°30′S, 44°W.

4. In the event that the catch of Electrona carlsbergi is expected to exceed 20 000 tonnes in the 2002/03 season, a survey of stock biomass and age structure shall be conducted during that season by the principal fishing nations involved. A full report of this survey including data on stock biomass (specifically including area surveyed, survey design and density estimates), age structure and the biological characteristics of the by-catch shall be made available in advance for discussion at the meeting of the Working Group on Fish Stock Assessment in 2003.

5. The directed fishery for Electrona carlsbergi in Statistical Subarea 48.3 shall close if the by-catch of any of the species named in Conservation Measure 33-01 95/XIV] reaches its by-catch limit or if the total catch of Electrona carlsbergi reaches 109 000 tonnes, whichever is sooner.

6. The directed fishery for Electrona carlsbergi in the Shag Rocks region shall close if the by-catch of any of the species named in Conservation Measure 33-01 [95/XIV] reaches its by-catch limit or if the total catch of Electrona carlsbergi reaches 14 500 tonnes, whichever is sooner.

7. If, in the course of the directed fishery for Electrona carlsbergi, the by-catch in any one haul of any species other than the target species

• Is greater than 100 kg and exceeds 5% of the total catch of all fish by weight, or

• Is equal to or greater than 2 tonnes, then

the fishing vessel shall move to another fishing location at least 5 n miles distant ¹. The fishing vessel shall not return to any point within 5 n miles of the location where the by-catch of species, other than the target species, exceeded 5%, for a period of at least five days ². The location where the by-catch exceeded 5% is defined as the path followed by the fishing vessel from the point at which the fishing gear was first deployed from the fishing vessel to the point at which the fishing gear was retrieved by the fishing vessel.

8. For the purpose of implementing this conservation measure:

(i) The Catch Reporting System set out in Conservation Measure 23-03 [40/X] shall apply in the 2002/03 season;

(ii) The Monthly Fine-scale Catch and Effort Data Reporting System set out in Conservation Measure 23-04 [122/XIX] shall also apply in the 2002/03 season. For the purposes of Conservation Measure 23-04 [122/XIX], the target species is Electrona carlsbergi, and ‘by-catch species' are defined as any cephalopod, crustacean or fish species other than Electrona carlsbergi; and

(iii) The Monthly Fine-scale Biological Data Reporting System set out in Conservation Measure 23-05 [121/XIX] shall also apply in the 2002/03 season. For the purposes of Conservation Measure 23-05 [121/XIX], the target species is Electrona carlsbergi, and ‘by-catch species' are defined as any cephalopod, crustacean or fish species other than Electrona carlsbergi. For the purposes of paragraph 3(ii) of Conservation Measure 23-05 [121/XIX] a representative sample shall be a minimum of 500 fish.

¹ This provision concerning the minimum distance separating fishing locations is adopted pending the adoption of a more appropriate definition of a fishing location by the Commission.

² The specified period is adopted in accordance with the reporting period specified in Conservation Measure 23-01 [51/XIX], pending the adoption of a more appropriate period by the Commission.

Conservation Measure 51-01 (2002) [32/XXI]

Precautionary Catch Limitations on Euphausia Superba in Statistical Area 48

Catch Limit

1. The total catch of Euphausia superba in Statistical Area 48 shall be limited to 4.0 million tonnes in any fishing season.

2. The total catch shall be further subdivided into statistical subareas as follows:

Subarea 48.1—1.008 million tonnes;

Subarea 48.2—1.104 million tonnes;

Subarea 48.3—1.056 million tonnes; and

Subarea 48.4—0.832 million tonnes.

3. Precautionary catch limits to be agreed by the Commission on the basis of advice of the Scientific Committee shall be applied to smaller management units, or on such other basis as the Scientific Committee may advise, if the total catch in Statistical Area 48 in any fishing season exceeds 620 000 tonnes.

4. This measure shall be kept under review by the Commission, taking into account the advice of the Scientific Committee.

Season

5. A fishing season begins on 1 December and finishes on 30 November of the following year.

Data

6. For the purpose of implementing this conservation measure, the data requirements set out in Conservation Measure 23-06 [F21/XXI] shall apply.

Conservation Measure 51-02 (2002) [106/XXI]

Precautionary Catch Limitation on Euphausia Superba in Statistical Division 58.4.1

Catch Limit

1. The total catch of Euphausia superba in Statistical Division 58.4.1 shall be limited to 440 000 tonnes in any fishing season.

2. The total catch shall be further subdivided into two subdivisions within Statistical Division 58.4.1 as follows: west of 115°E, 277 000 tonnes; and east of 115°E, 163 000 tonnes.

3. This measure shall be kept under review by the Commission, taking into account the advice of the Scientific Committee.

Season

4. A fishing season begins on 1 December and finishes on 30 November the following year.

Data

5. For the purposes of implementing this conservation measure, the data requirements set out in Conservation Measure 23-06 [F21/XXI] shall apply.

Conservation Measure 51-03 (2002) [45/XXI]

Precautionary Catch Limitation on Euphausia Superba in Statistical Division 58.4.2

Catch Limit

1. The total catch of Euphausia superba in Statistical Division 58.4.2 shall be limited to 450 000 tonnes in any fishing season. This limit shall be kept under review by the Commission, taking into account the advice of the Scientific Committee.

Season

2. A fishing season begins on 1 December and finishes on 30 November of the following year.

Data

3. For the purposes of implementing this conservation measure, the data requirements set out in Conservation Measure 23-06 [F21/XXI] shall apply.

Conservation Measure 52-01 (2002) [F08/XXI]

Limits on the Fishery for Crab in Statistical Subarea 48.3 in the 2002/03 Season

The Commission hereby adopts the following conservation measure in accordance with Conservation Measure 31-01 [7/V]:

Access

1. The fishery for crab in Statistical Subarea 48.3 shall be conducted by vessels using pots only. The crab fishery is defined as any commercial harvest activity in which the target species is any member of the crab group (Order Decapoda, Suborder Reptantia).

2. The crab fishery shall be limited to one vessel per Member.

3. Each Member intending to participate in the crab fishery shall notify the CCAMLR Secretariat at least three months in advance of starting fishing of the name, type, size, registration number, radio call sign, and research and fishing operations plan of the vessel that the Member has authorised to participate in the crab fishery.

Catch Limit

4. The total catch of crab in Statistical Subarea 48.3 in the 2002/03 season shall not exceed a precautionary catch limit of 1 600 tonnes.

5. The crab fishery shall be limited to sexually mature male crabs—all female and undersized male crabs caught shall be released unharmed. In the case of Paralomis spinosissima and Paralomis formosa, males with a minimum carapace width of 94 mm and 90 mm, respectively, may be retained in the catch.

Season

6. For the purpose of the pot fishery for crab in Statistical Subarea 48.3, the 2002/03 season is defined as the period from 1 December 2002 to 30 November 2003, or until the catch limit is reached, whichever is sooner.

By-Catch

7. The by-catch of Dissostichus eleginoides shall be counted against the catch limit in the fishery for Dissostichus eleginoides in Statistical Subarea 48.3.

Observers

8. Each vessel participating in this fishery shall have at least one scientific observer appointed in accordance with the CCAMLR Scheme of International Scientific Observation, and where possible one additional scientific observer, on board throughout all fishing activities within the fishing period. Scientific observers shall be afforded unrestricted access to the catch for statistical random sampling prior to, as well as after, sorting by the crew.

Data: Catch/Effort

9. For the purpose of implementing this conservation measure in the 2002/03 season, the following shall apply:

(i) The Ten-day Catch and Effort Reporting System set out in Conservation Measure 23-02 [61/XII]; and

(ii) The Monthly Fine-scale Catch and Effort Reporting System set out in Conservation Measure 23-04 [122/XIX]. Fine-scale data shall be submitted on a haul-by-haul basis.

10. For the purpose of Conservation Measures 23-02 and 23-04 [61/XII and 122/XIX] the target species is crab and by-catch species are defined as any species other than crab.

Data: Biological

11. Fine-scale biological data, as required under Conservation Measure 23-05 [121/XIX], shall be collected and recorded. Such data shall be reported in accordance with the Scheme of International Scientific Observation.

Research

12. Each vessel participating in this exploratory fishery shall conduct fishery-based research in accordance with the data requirements described in Annex 52-01/A [F08/A] and the experimental harvest regime described in Conservation Measure 52-02 [F09/XXI]. Data collected for the period up to 31 August 2003 shall be reported to CCAMLR by 30 September 2003 so that the data will be available to the meeting of the Working Group on Fish Stock Assessment in 2003. Such data collected after 31 August shall be reported to CCAMLR not later than three months after the closure of the fishery.

Annex 52-01/A [F08/A]

Data Requirements on the Crab Fishery in Statistical Subarea 48.3

Catch and Effort Data: Cruise Descriptions: cruise code, vessel code, permit number, year.

Pot Descriptions: diagrams and other information, including pot shape, dimensions, mesh size, funnel position, aperture and orientation, number of chambers, presence of an escape port.

Effort Descriptions: date, time, latitude and longitude of the start of the set, compass bearing of the set, total number of pots set, spacing of pots on the line, number of pots lost, depth, soak time, bait type.

Catch Descriptions: retained catch in numbers and weight, by-catch of all species (see Table 1), incremental record number for linking with sample information.

Table 1.—Data Requirements for By-Catch Species in the Crab Fishery in Statistical Subarea 48.3
Species | Data requirements
Dissostichus eleginoides | Numbers and estimated total weight.
Notothenia rossii | Numbers and estimated total weight.
Other species | Estimated total weight.

Biological Data: For these data, crabs are to be sampled from the line hauled just prior to noon, by collecting the entire contents of a number of pots spaced at intervals along the line so that between 35 and 50 specimens are represented in the subsample.

Cruise Descriptions: cruise code, vessel code, permit number.

Sample Descriptions: date, position at start of the set, compass bearing of the set, line number.

Data: species, sex, length of at least 35 individuals, presence/absence of rhizocephalan parasites, record of the destination of the crab (kept, discarded, destroyed), record of the pot number from which the crab comes.

Conservation Measure 52-02 (2002) [F09/XXI]

Experimental Harvest Regime for the Crab Fishery in Statistical Subarea 48.3 in the 2002/03 Season

The following measures apply to all crab fishing within Statistical Subarea 48.3 in the 2002/03 fishing season. Every vessel participating in the crab fishery in Statistical Subarea 48.3 shall conduct fishing operations in accordance with an experimental harvest regime as outlined below:

1. Vessels shall conduct the experimental harvest regime in the 2002/03 season at the start of their first season of participation in the crab fishery and the following conditions shall apply:

(i) Every vessel when undertaking an experimental harvesting regime shall expend its first 200,000 pot hours of effort within a total area delineated by twelve blocks of 0.5° latitude by 1.0° longitude. For each string, pot hours shall be calculated by taking the total number of pots on the string and multiplying that number by the soak time (in hours) for that string. Soak time shall be defined for each string as the time between start of setting and start of hauling;

(ii) Vessels shall not fish outside the area delineated by the 0.5° latitude by 1.0° longitude blocks prior to completing the experimental harvesting regime;

(iii) Vessels shall not expend more than 30,000 pot hours in any single block of 0.5° latitude by 1.0° longitude;

(iv) If a vessel returns to port before it has expended 200,000 pot hours in the experimental harvesting regime the remaining pot hours shall be expended before it can be considered that the vessel has completed the experimental harvesting regime; and

(v) After completing 200,000 pot hours of experimental fishing, it shall be considered that vessels have completed the experimental harvesting regime and they shall be permitted to commence fishing in a normal fashion.

2. Data collected during the experimental harvest regime up to 30 June 2003 shall be submitted to CCAMLR by 31 August 2003.

3. Normal fishing operations shall be conducted in accordance with the regulations set out in Conservation Measure 52-01 [F08/XXI].

4. For the purposes of implementing normal fishing operations after completion of the experimental harvest regime, the Ten-day Catch and Effort Reporting System set out in Conservation Measure 23-02 [61/XII] shall apply.

5. Vessels that complete experimental harvest regime shall not be required to conduct experimental fishing in future seasons. However, these vessels shall abide by the guidelines set forth in Conservation Measure 52-01 [F08/XXI].

6. Fishing vessels shall participate in the experimental harvest regime independently (i.e. vessels may not cooperate to complete phases of the experiment).

7. Crabs taken by any vessel for research purposes will be considered as part of any catch limits in force for each species taken, and shall be reported to CCAMLR as part of the annual STATLANT returns.

8. All vessels participating in the experimental harvest regime shall carry at least one scientific observer on board during all fishing activities.

Conservation Measure 61-01 (2002) [F20/XXI]

Limits on the Exploratory Fishery for Martialia Hyadesi in Statistical Subarea 48.3 in the 2002/03 Season

The Commission hereby adopts the following conservation measure in accordance with Conservation Measures 21-02 and 31-01 [65/XXI and 7/V]:

Access

1. Fishing for Martialia hyadesi in Statistical Subarea 48.3 shall be limited to the exploratory jig fishery by notifying countries. The fishery shall be conducted by vessels using jigs only.

Catch Limit

2. The total catch of Martialia hyadesi in Statistical Subarea 48.3 in the 2002/03 season shall not exceed a precautionary catch limit of 2,500 tonnes.

Season

3. For the purpose of the exploratory jig fishery for Martialia hyadesi in Statistical Subarea 48.3, the 2002/03 season is defined as the period from 1 December 2002 to 30 November 2003, or until the catch limit is reached, whichever is sooner.

Observers

4. Each vessel participating in this fishery shall have at least one scientific observer appointed in accordance with the CCAMLR Scheme of International Scientific Observation, and where possible one additional scientific observer, on board throughout all fishing activities within the fishing period.

Data: Catch/Effort

5. For the purpose of implementing this conservation measure in the 2002/03 season, the following shall apply:

(i) The Ten-day Catch and Effort Reporting System set out in Conservation Measure 23-02 [61/XII]; and

(ii) The Monthly Fine-scale Catch and Effort Reporting System set out in Conservation Measure 23-04 [122/XIX]. Fine-scale data shall be submitted on a haul-by-haul basis.

6. For the purpose of Conservation Measures 23-02 and 23-04 [61/XII and 122/XIX], the target species is Martialia hyadesi and by-catch species are defined as any species other than Martialia hyadesi.

Data: biological

7. Fine-scale biological data, as required under Conservation Measure 23-05 [121/XIX], shall be collected and recorded. Such data shall be reported in accordance with the Scheme of International Scientific Observation.

Research

8. Each vessel participating in this exploratory fishery shall collect data in accordance with the Data Collection Plan described in Annex 61-01/A [F20/A]. Data collected pursuant to the plan for the period up to 31 August 2003 shall be reported to CCAMLR by 30 September 2003 so that the data will be available to the meeting of the Working Group on Fish Stock Assessment in 2003.

Annex 61-01/A [F20/A]

Data Collection Plan for Exploratory Squid (Martialia Hyadesi) Fisheries in Statistical Subarea 48.3

1. All vessels will comply with conditions set by CCAMLR. These include data required to complete the data form (Form TAC) for the Ten-day Catch and Effort Reporting System, as specified by Conservation Measure 23-02 [61/XII]; and data required to complete the CCAMLR standard fine-scale catch and effort data form for a squid jig fishery (Form C3). This includes numbers of seabirds and marine mammals of each species caught and released or killed.

2. All data required by the CCAMLR Scientific Observers Manual for squid fisheries will be collected. These include:

(i) Vessel and observer program details (Form S1);

(ii) Catch information (Form S2); and

(iii) Biological data (Form S3).

Resolution 18/XXI [RR/XXI]

Harvesting of Dissostichus Eleginoides in Areas Outside of Coastal State Jurisdiction Adjacent to the CCAMLR Area in FAO Statistical Areas 51 and 57

The Commission,

Affirming that CCAMLR was established to conserve the marine living resources of the Antarctic marine ecosystem,

Recognising that CCAMLR also has the attributes of a regional fisheries management organisation as considered under the auspices of the United Nations,

Recognising that CCAMLR is the primary body responsible for the conservation and rational use of Dissostichus eleginoides in areas not under national jurisdiction,

Noting Resolution 10/XII concerning the need to harmonise management measures within and adjacent to the CCAMLR Area taking into account Article 87 of UNCLOS and in recognition of the obligations to conserve the living resources of the high seas under Articles 117 to 119 of UNCLOS,

Noting the role of cooperation in scientific research through collecting and exchanging data,

Recognising that measures to manage harvesting of stocks of Dissostichus eleginoides are needed in high seas of FAO Statistical Areas 51 and 57,

Recommends that Members provide data and other information, subject to their laws and regulations, relevant to understanding the biology and estimating the status of stocks in FAO Statistical Areas 51 and 57.

Recommends that Members take steps necessary to conduct only that level of harvesting of Dissostichus eleginoides in FAO Statistical Areas 51 and 57, which would ensure the conservation of this species in the Convention Area.

Resolution 19/XXI [R01/XXI]

Flags of Non-Compliance*

The Commission,

Concerned that some Flag States, particularly certain non-Contracting Parties, do not comply with their obligations regarding jurisdiction and control according to international law in respect of fishing vessels entitled to fly their flag that carry out their activities in the Convention Area, and that as a result these vessels are not under the effective control of such Flag States,

Aware that the lack of effective control facilitates fishing by these vessels in the Convention Area in a manner that undermines the effectiveness of CCAMLR's conservation measures, leading to illegal, unreported and unregulated (IUU) catches of fish and unacceptable levels of incidental mortality of seabirds,

Considering therefore such fishing vessels to be flying Flags of Non-Compliance (FONC) in the context of CCAMLR ( FONC vessels),

Noting that the FAO Agreement to Promote Compliance with International Conservation and Management Measures by Fishing Vessels on the High Seas emphasizes that the practice of flagging or reflagging fishing vessels as a means of avoiding compliance with international conservation and management measures for living marine resources and the failure of the States to fulfil their responsibilities with respect of fishing vessels entitled to fly their flag, are among the factors that seriously undermine the effectiveness of such measures,

Noting that the International Plan of Action to Prevent, Deter and Eliminate Illegal, Unreported and Unregulated Fishing calls on States to take measures to discourage nationals subject to their jurisdiction from supporting and engaging in any activity that undermines the effectiveness of international conservation and management measures,

urges all Contracting Parties and non-Contracting Parties cooperating with CCAMLR to:

1. Without prejudice to the primacy of the responsibility of the Flag State, to take measures or otherwise cooperate to ensure, to the greatest extent possible, that the nationals subject to their jurisdiction do not support or engage in IUU fishing, including engagement on board FONC vessels in the CCAMLR Convention Area if this is consistent with their national law.

2. Ensure the full cooperation of their relevant national agencies and industries in implementing the measures adopted by CCAMLR.

3. Develop ways to ensure that the export or transfer of fishing vessels from their State to a FONC State is prohibited.

4. Prohibit the landings and transhipments of fish and fish products from FONC vessels.

*Many of the flags hereby called FONC are commonly referred to as “flags of convenience”.

Margaret F. Hayes,
Director, Office of Oceans Affairs, Bureau of Oceans, International Environmental & Scientific Affairs, Department of State.

[FR Doc. 02-31851 Filed 12-18-02; 8:45 am]

BILLING CODE 4710-09-P